DEPARTMENT OF ENERGY

Federal Energy Regulatory Commission

18 CFR Part 101

[Docket No. RM21-11-000; Order No. 898]

Accounting and Reporting Treatment of Certain Renewable Energy Assets

AGENCY: Federal Energy Regulatory Commission, DOE.

ACTION: Final rule.

SUMMARY: In this final rule, the Federal Energy Regulatory Commission (Commission or FERC) is amending the Uniform System of Accounts (USofA) for public utilities and licensees to: create new accounts for wind, solar, and other renewable generating assets; create a new functional class for energy storage accounts; codify the accounting treatment of environmental credits; and create new accounts within existing functions for computer hardware, software, and communication equipment. We also amend the relevant FERC forms to accommodate these changes.

DATES: Effective date: This rule is effective January 1, 2025.

FOR FURTHER INFORMATION CONTACT:

Daniel Birkam (Technical Information), Office of Enforcement, Federal Energy Regulatory Commission, 888 First Street NE, Washington, DC 20426, (202) 502-8035, Daniel.Birkam@ferc.gov

Todd Kuzniewski (Technical Information), Office of Enforcement, Federal Energy Regulatory Commission, 888 First Street NE, Washington, DC 20426, (202) 502-6381, Todd.Kuzniewski@ferc.gov

Nathan Lobel (Legal Information), Office of the General Counsel, Federal Energy Regulatory Commission, 888 First Street NE, Washington, DC 20426, (202) 502-8456, Nathan.Lobel@ferc.gov

SUPPLEMENTARY INFORMATION:

Table of Contents

| Paragraph numbers
I. Introduction | 1
II. Background | 4
A. Previous Changes to the USofA | 4
B. Locke Lord Petition | 9
C. Notice of Inquiry | 12
D. Notice of Proposed Rulemaking | 16
III. Need for Reform | 17
IV. Proposed Reforms | 22
A. Creation of New Subfunctions and Accounts for Non-Hydro Renewables | 22
1. NOPR | 22
2. Comments | 31
3. Commission Determination | 47
B. Creation of Energy Storage Function and Accounts | 66
1. NOPR | 66
2. Comments | 68
3. Commission Determination | 72
C. Accounting Treatment for Renewable Energy Credits | 76
1. NOPR | 76
2. Comments | 78
3. Commission Determination | 87
D. Creation of Computer Hardware, Software, and Communication Equipment Accounts | 99
1. NOPR | 99
2. Comments | 103
3. Commission Determination | 110
E. Reporting | 117
1. NOPR | 117
2. Comments | 122
3. Commission Determination | 125
F. Other Issues | 129
1. Account Numbering | 129
a. Comments | 129
b. Commission Determination | 130
2. Issues Beyond the Scope of This Rulemaking | 131
a. Comments | 131
b. Commission Determination | 132
G. Proposed Compliance Procedures | 133
1. Comments | 133
2. Commission Determination | 136
V. Information Collection Statement | 139
VI. Environmental Analysis | 148
VII. Regulatory Flexibility Act | 149
VIII. Document Availability | 152
IX. Effective Date and Congressional Notification | 155
X. Appendix A: New and Amended Form 1/1F/3-Q (Electric)

I. Introduction

1. In this final rule, the Commission is revising the Uniform System of Accounts (USofA) ¹ to account for rapid changes in technology and resource mix in the U.S. energy industry over recent decades. The reforms adopted in this final rule will add functional detail to the USofA in order to provide uniformity, consistency, and transparency in accounting and reporting for investments in these technologies, and to assist the Commission in fulfilling its responsibilities under the Federal Power Act (FPA) to ensure that rates remain just and reasonable. Therefore, pursuant to the Commission's authority to prescribe accounting and financial reporting requirements for jurisdictional companies under section 301 of the FPA,² we modify part 101 ³ of the Commission's regulations to: (1) create new subfunctions and accounts for wind, solar, and other renewable generating assets; (2) establish a new functional class and accounts for energy storage assets; (3) create new accounts and codify accounting treatment for environmental credits; and (4) create new accounts for computer hardware, software, and communication equipment within existing functions that do not already include them. The final rule also makes corresponding changes to the following FERC Forms to implement the USofA changes: FERC Form Nos. 1, 1-F, 3-Q (electric), and 60.⁴

¹ Uniform System of Accounts Prescribed for Public Utilities & Licensees Subject to the Provisions of the Federal Power Act, 18 CFR part 101. Unless otherwise indicated, references to the USofA in this final rule refer to the USofA for public utilities and licensees.

² 16 U.S.C. 825.

³ 18 CFR part 101.

⁴ Edits to the FERC Form No. 60 Annual Report of Centralized Service Companies, governed under the Public Utility Holding Company Act, are the result of changes to the FERC forms for public utilities and licensees from which FERC Form No. 60 summarily references accounts.

2. Generally, we are adopting the specific reforms proposed in the Notice of Proposed Rulemaking (NOPR) (87 FR 59870 (Oct. 3, 2022)), but with certain revisions based on the record in this proceeding. In particular, certain proposals in the NOPR have been altered in this final rule to effectuate the Commission's intent, better address the needs of different stakeholders, and facilitate solutions to potential technical challenges.

3. As discussed further below in section IV.G (Proposed Compliance Procedures), each utility must implement the requirements of this final rule by January 1, 2025.

II. Background

A. Previous Changes to the USofA

4. The USofA was created by the Federal Power Commission to facilitate the Commission's ratemaking responsibilities and uniformly capture financial and operational information for, first, traditional public utilities, and then natural gas pipelines.⁵ The USofA has been modified over time to account for changing technological, legal, and market conditions.

⁵ 18 CFR part 101.

5. For example, in Order No. 552, the Commission revised the USofA to account for sulfur dioxide emissions allowances under the 1990 Clean Air Act Amendments.⁶ In that order, the Commission created new inventory Accounts 158.1 (Allowance Inventory) and 158.2 (Allowances Withheld) and new expense Account 509 (Allowances) to accommodate the new sulfur dioxide emissions allowances. The Commission noted that some commenters sought to classify allowances in existing accounts to facilitate a desired ratemaking result; however, the Commission found these comments unpersuasive because accounting rules provide sound and uniform accounting rather than dictating particular ratemaking results.⁷

⁶ Revisions to Uniform System of Accounts to Account for Allowances under the Clean Air Act Amendments of 1990 & Regulatory-Created Assets & Liabilities & to Form Nos. 1, 1-F, 2 & 2-A, Order No. 552, 62 FR 61299 (Nov. 17, 1997), FERC Stats. & Regs. ¶ 30,967 (1993) (cross-referenced at 62 FERC ¶ 61,299).

⁷ Id. at 30,799.

6. In 2013, the Commission issued Order No. 784, which revised the USofA and related forms to codify accounting treatment for energy storage.⁸ The Commission created: (1) new electric plant and associated operating and maintenance expense accounts (O&M accounts) to record investments in, and operations and maintenance costs associated with, energy storage assets; (2) a new purchased power account to record the cost of power purchased for use in storage operations; and (3) new FERC Form Nos. 1 and 1-F schedules.⁹ Order No. 784 also amended existing schedules in FERC Form Nos. 1, 1-F, and 3-Q (electric) to report operational and statistical data on storage assets.

⁸ Third-Party Provision of Ancillary Services; Accounting & Financial Reporting for New Electric Storage Technologies, Order No. 784, 78 FR 46178 (July 30, 2013), 144 FERC ¶ 61,056 (2013), order on clarification, Order No. 784-A, 146 FERC ¶ 61,114 (2014).

⁹ Id. P 123.

7. Specifically, the Commission created electric plant accounts for energy storage assets within the existing USofA functions: Account 348 (Energy Storage Equipment—Production), Account 351 (Energy Storage Equipment—Transmission), and Account 363 (Energy Storage Equipment—Distribution).¹⁰ The Commission created corresponding new O&M accounts: Account 548.1 (Operation of Energy Storage Equipment) and Account 553.1 (Maintenance of Energy Storage Equipment) for energy storage plant classified as production; Account 562.1 (Operation of Energy Storage Equipment) and Account 570.1 (Maintenance of Energy Storage Equipment) for energy storage plant classified as transmission; and Account 582.1 (Operation of Energy Storage Equipment) and Account 592.2 (Maintenance of Energy Storage Equipment) for energy storage plant classified as distribution.¹¹

¹⁰ Id. P 141.

¹¹ Id. P 147.

8. In these energy storage accounts, the installed cost of energy storage assets is recorded based on the function or purpose the assets serve. Where an energy storage asset performs more than one purpose or function, Order No. 784 requires the cost of the asset to be allocated among the accounts based on the functions performed and approved rate recovery.¹² While some commenters argued that the requirement to allocate energy storage assets that perform multiple functions across the relevant accounts places an undue administrative burden on utilities, the Commission nevertheless provided for functional recording because utilities that recover the costs of storage operations on a cost of service basis must already maintain cost allocation information on the assets.¹³ Furthermore, the Commission in Order No. 784 found that the alternative of recording all costs of energy storage assets in a single plant account would result in less transparent reporting.¹⁴

¹² Id. P 126.

¹³ Id. P 133.

¹⁴ Id. P 135.

B. Locke Lord Petition

9. In Docket No. AC20-103, Locke Lord submitted a petition to the Chief Accountant requesting confirmation that the costs of certain wind and solar generating assets should be booked to Other Production Accounts 343 (Prime Movers), 344 (Generators), and 345 (Accessory Electric Equipment).¹⁵ Specifically, Locke Lord proposed to record: (1) wind turbines, solar modules, combiner circuits, and inverters to Account 343 (Prime Movers); (2) wind turbine generators to Account 344 (Generators); and (3) DC conductors, individual low-voltage step-up transformers, AC conductors (34.5 kV) associated with collector systems, power cables, conduit and underground duct banks, circuit breakers, disconnect switches and accessories, grounding conductors and grounding transformers, collector system buses, main and/or auxiliary transfer buses, collector system control systems, Supervisory Control and Data Acquisition (SCADA) systems, static capacitors and reactors, and collector system substations to Account 345 (Accessory Electric Equipment).

¹⁵ Locke Lord LLP, 174 FERC ¶ 61,033, at P 1 (2021).

10. Some commenters in that proceeding argued that the petition proposed recording inappropriate costs, including costs related to the collector system and SCADA,¹⁶ into Account 345 (Accessory Electric Equipment), which would implicate broader issues of compensation for reactive power.¹⁷ Some commenters, including Edison Electric Institute (EEI), suggested that the Commission consider creating new accounts for wind, solar, and other non-hydro renewables to resolve this dispute.¹⁸

¹⁶ Id. P 6.

¹⁷ Id. PP 10, 13. Specifically, the AEP Methodology identifies costs associated with four groups of plant investment: (1) the generators/exciters; (2) generator step-up transformers; (3) accessory electric equipment; and (4) the remaining production plant investment. These costs are then allocated between real and reactive power using an allocation factor. Id. P 10 n.12.

¹⁸ Id. PP 8, 13, 16.

11. The Commission denied the petition, noting that the record reflected substantial disagreement about equipment functions and categorizations.¹⁹ In so doing, the Commission also noted that it would concurrently issue a Notice of Inquiry (NOI) to consider creating separate categories of accounts in the USofA for wind and solar generating assets.²⁰ The Commission has since opened a separate proceeding under Docket No. RM22-2-000 to gather comments and information about potential alternative reactive power compensation.

¹⁹ Id. P 19.

²⁰ Id. P 20.

C. Notice of Inquiry

12. On January 19, 2021, the Commission issued an NOI in the instant docket seeking comment on the appropriate accounting treatment for certain renewable generating assets.²¹ Specifically, the Commission sought comment on: (1) whether to create new accounts within the USofA for non-hydro renewable energy generating assets; ²² (2) what modifications to FERC Form No. 1 are needed to reflect these changes; (3) whether to codify the proper accounting treatment of the purchase, generation, and use of renewable energy credits (REC); and (4) whether there are rate-setting implications for these accounting and reporting changes.

²¹ Accounting & Reporting Treatment of Certain Renewable Energy Assets, Notice of Inquiry, 86 FR 7086, 174 FERC ¶ 61,032 (2021) (NOI).

²² The NOI defined non-hydro renewable generating assets as production assets other than hydroelectric generators (such as solar, wind energy, geothermal, biomass, etc.) that rely on the heat or motion of the earth or the sun's radiation to produce energy. These assets are denoted as renewable because the power production is based on a fuel source that is not consumed or destroyed by the generation process, such as buried hydrocarbons (coal, oil, natural gas) or the decay of rare irradiated heavy metals (nuclear). Biomass (trees, nut shells, grain husks and stalks, etc.) is considered renewable, despite consumption of its hydrocarbon source, because the carbon it releases is offset by regrowth of carbon capturing equivalent biomass. Id. P 1.

13. The Commission explained that the USofA contains discrete production accounts for Steam, Nuclear, Hydraulic, and Other Production, but does not contain accounts specifically designated for solar, wind, or other non-hydro renewable generating assets.²³ The Commission noted that companies record non-hydro renewable generating assets in the USofA's Other Production accounts, but that parties have disagreed which Other Production accounts are appropriate for these assets.²⁴ For example, the Commission noted that no plant account definition clearly describes solar panels, PV inverters, wind generation towers, or the computer hardware and software required to operate wind and solar generators.²⁵ Similarly, the Commission explained that the related O&M accounts do not uniquely accommodate costs to maintain wind and solar facilities.²⁶

²³ Id. P 2.

²⁴ Id. PP 2-3.

²⁵ Id. PP 6-9.

²⁶ Id. P 9.

14. The Commission also explained that USofA accounts do not explicitly address the purchase, generation, or use of RECs.²⁷ The Commission found in Ameren Illinois Co. that RECs are analogous to sulfur dioxide emission allowances, accounting treatment for which was codified in Order No. 552.²⁸ The Commission noted that Order No. 552 classified emission allowances as inventory and established new inventory and expense accounts to record the allowances and associated activities.²⁹ In keeping with Order No. 552, the Commission has found that RECs that are purchased or generated should be recorded in Account 158.1 (Allowance Inventory) and expensed to Account 509 (Allowances) as they are utilized.³⁰

²⁷ Id. PP 4, 13.

²⁸ Ameren Illinois Co., 170 FERC ¶ 61,267, at P 52 (2020).

²⁹ NOI, 174 FERC ¶ 61,032 at P 13 (citing Order No. 552, FERC Stats. & Regs. ¶ 30,967).

³⁰ Id. PP 4, 13-14 (citing Ameren Illinois Co., 170 FERC ¶ 61,267 at P 52).

15. The Commission also noted that any proposed additions and modifications to its USofA would require corresponding changes to FERC Form No. 1, and could have a significant and measurable impact on rates.³¹

³¹ Id. PP 12, 16.

D. Notice of Proposed Rulemaking

16. On July 28, 2022, the Commission issued a NOPR in the same proceeding.³² In the NOPR, the Commission proposed, as discussed in greater detail below, to: (1) create new subfunctions and accounts for wind, solar, and other non-hydro renewable generating assets; (2) establish a new functional class and accounts for energy storage accounts; (3) create new accounts and codify the accounting treatment of RECs; and (4) create new accounts for computer hardware, software, and communication equipment within existing functions that do not already include them. The Commission received seven comments from a diverse set of stakeholders.³³

³² See Accounting & Reporting Treatment of Certain Renewable Energy Assets, Notice of Proposed Rulemaking, 87 FR 59870 (Oct. 3, 2022), 180 FERC ¶ 61,050, at P 28 (2022) (NOPR).

³³ See American Clean Power Association (ACP) and Solar Energy Industries Association (SEIA) (collectively Clean Energy Associations) NOPR Comments; Carl Pechman NOPR Comments; Dominion Energy, Inc. (Dominion) NOPR Comments; EEI and American Gas Association (AGA) (collectively Utility Associations) NOPR Comments; Liquid Energy Pipeline Association (LEPA) NOPR Comments; Pacific Gas and Electric (PG&E) and San Diego Gas and Electric (SDG&E) NOPR Comments; Retail Energy Supply Association (RESA) NOPR Comments.

III. Need for Reform

17. In the NOPR, the Commission noted that the USofA has not been significantly modified since the Commission issued Order No. 784 in 2013 and does not provide clear accounting treatment for activities related to many technological and economic developments in the U.S. energy industry of recent decades, like the growth of investments into renewable generating facilities, battery storage, and RECs, among others.³⁴ By adding functional detail to the USofA, these reforms will provide uniformity, consistency, and transparency in accounting and reporting for investments into these assets, and assist the Commission in fulfilling its responsibilities under the FPA to ensure that rates remain just and reasonable.

³⁴ NOPR, 180 FERC ¶ 61,050 at P 27.

18. As discussed in the NOPR and NOI, the USofA contains discrete production accounts for Steam, Nuclear, Hydraulic, and a catch-all category for Other Production.³⁵ However, the USofA does not have production accounts designated specifically for solar, wind, or other renewable generating assets; public utilities instead record non-hydro renewable generating assets in the Other Production accounts. Given the rapid expansion and development of wind, solar, and other renewable generation technologies, and the record in Docket No. AC20-103 and the instant rulemaking proceeding, we conclude that the USofA must be modified to clarify how public utilities should account for non-hydro renewable generating assets, to avoid inconsistencies in accounting and reporting, and to facilitate the ratemaking process. NOI and NOPR commenters also generally agreed that these accounts are needed given non-hydro renewables' varied and distinct characteristics from existing electric production subfunctions within the USofA.³⁶

³⁵ 18 CFR part 101.

³⁶ See ACP NOI Comments at 16; Alliant Energy NOI Comments at 3; Dominion NOPR Comments at 3; EEI NOI Comments at 4; Utility Associations NOPR Comments at 7. But see Clean Energy Associations NOPR Comments at 6 (contending that confusion and inconsistency in recording renewable energy assets can be resolved at lesser cost by clarifying that specific existing USofA accounts should be used).

19. Our reporting requirements for energy storage also need revision. In Order No. 784, the Commission created accounts for energy storage assets and related operations and maintenance expenses within different functions, but underestimated the additional burden that functional reporting, along with frequent reclassification of plant assets and associated accumulated depreciation, imposes on utilities.³⁷ Since the issuance of Order No. 784, and based on experience and industry input since the issuance of Order No. 784, the Commission now recognizes the need for revisions to its USofA for energy storage accounting. Today, it is clear that frequently changing functionalization imposes significant recordkeeping and reporting burden on utilities, which increases internal control risks for reporting errors in our forms.³⁸ Consequently, NOI commenters requested the Commission to create, and NOPR commenters supported the proposed creation of, a new energy storage function in this proceeding.³⁹ We are now persuaded that this new function is needed to simplify and improve recording and reporting of energy storage assets and related expenses.

³⁷ See Order No. 784, 144 FERC ¶ 61,056 at P 133.

³⁸ EEI NOI Comments at 6-9.

³⁹ Clean Energy Associations NOPR Comments at 5; EEI NOI Comments at 6-9; Energy Storage Association (ESA) NOI Comments at 1-2; Utility Associations NOPR Comments at 11.

20. Similarly, the Commission has concluded that USofA revision is needed to formalize accounting treatment for the purchase, generation, and use of environmental credits. While the Commission explained in 2020 that RECs should be treated analogously to the accounting treatment for sulfur dioxide emission allowances addressed in Order No. 552,⁴⁰ not all utilities follow this approach.⁴¹ In addition, utilities are increasingly using a variety of environmental crediting items.⁴² As such, codifying environmental credit treatment will promote consistent treatment of these items in Commission accounting and reporting.

⁴⁰ Ameren Illinois Co., 170 FERC ¶ 61,267 at P 52.

⁴¹ EEI NOI Comments at 10.

⁴² See Carl Pechman NOPR Comments at 4; Utility Associations NOPR Comments at 19.

21. Lastly, designated computer hardware, software, and communication equipment accounts for all functions and plant subfunctions are needed to eliminate ambiguity and improve consistency in accounting and reporting. Currently, the USofA includes designated computer hardware, software, and computer equipment accounts in some functions and subfunctions but not others. Specifically, the Regional Transmission and Market Operation Plant function includes plant accounts for computer hardware, software, and communication equipment, and the Transmission and Regional Market functions contain maintenance accounts for these assets, but no other plant or maintenance function includes such specificity.⁴³ USofA revisions are therefore needed to provide for consistent treatment of these assets and costs.

⁴³ See 18 CFR part 101.

IV. Proposed Reforms

A. Creation of New Subfunctions and Accounts for Non-Hydro Renewables

1. NOPR

22. The Commission proposed three new subfunctions within the Production Plant function of the USofA: D. Solar Production, E. Wind Production, and F. Other Non-Hydro Renewable Production.⁴⁴ Consistent with all other production subfunctions (e.g., Steam Production, Nuclear Production, and Hydraulic Production), the Commission proposed the following five accounts within each of these three new subfunctions: (1) Accounts 338.1, 338.20, and 339.1 (Land and Land Rights); (2) Accounts 338.2, 338.21, and 339.2 (Structures and Improvements); (3) Accounts 338.8, 338.29, and 339.8 (Other Accessory Electrical Equipment); (4) Accounts 338.12, 338.33, and 339.12 (Miscellaneous Power Plant Equipment); and (5) Accounts 338.13, 338.34, and 339.13 (Asset Retirement Costs).⁴⁵ These accounts are similar in description and instruction to the existing accounts of the same title in each of the other production subfunctions.

⁴⁴ NOPR, 180 FERC ¶ 61,050 at P 33.

⁴⁵ Id. P 35. The three accounts under each number represent the three new subfunctions: Solar, Wind, and Non-Hydro Renewable Production, respectively.

23. The Commission also proposed to create three additional accounts for the new Solar Production and Wind Production subfunctions: (1) Accounts 338.5 and 338.26 (Collector System); (2) Accounts 338.6 and 338.27 (Generation Step-up Transformers (GSU)); and (3) Accounts 338.7 and 338.28 (Inverters).⁴⁶ Similar to distribution system accounts, the Collector System accounts list many of the same items included in the accounts for Poles, Towers and Fixtures (Account 364) and Overhead Conductors and Devices (Account 365).⁴⁷ The GSU accounts are intended to record transformers that are directly connected to generator terminal tips and supporting equipment. The inverter accounts are intended to record equipment that converts power from direct current to alternating current.

⁴⁶ Id. P 36.

⁴⁷ For example, Account 364 listed, among others, poles, towers, anchors, and extension arms. Account 365 listed, among others, circuit breakers, conductors, and lightning arrestors.

24. Additionally, the Commission proposed unique generating accounts for all three subfunctions: (1) Account 338.4 (Solar Panels) for Solar Production; (2) Account 338.23 (Wind Turbines) and Account 338.24 (Wind Towers and Fixtures) for Wind Production; and (3) Account 339.3 (Fuel Holders), Account 339.4 (Boilers), and Account 339.6 (Generators) for Other Non-Hydro Renewable Production.⁴⁸ The solar panels account is designated to record panels and support equipment that change solar energy into electricity and related supporting structures such as racks and gears. The wind turbines account includes components that are located from the top of the tower to the end of the turbine blades. The wind towers and fixtures account includes the tower and the components contained within the tower that are located from the top of the foundation to the base of the nacelle. The three accounts to record fuel holders, boilers, and generators that are included in Other Non-Hydro Renewable Production capture renewable generation assets that use any fuel source or method (e.g., steam or direct burning). These accounts allow for recording biofuels, hydrogen, geothermal, and other types of generation in this subfunction. Many of the items listed in these account descriptions are the same as those accounts listed in the Steam and Other Production subfunctions.⁴⁹

⁴⁸ NOPR, 180 FERC ¶ 61,050 at P 37.

⁴⁹ See, e.g., Account 342 (Fuel Holders, Producers, and Accessories); Account 312 (Boiler Plant Equipment); Account 344 (Generators).

25. Similar to the new plant accounts for non-hydro renewables, the Commission proposed new O&M accounts for these subfunctions, titled F. Solar Generation, G. Wind Generation, and H. Other Non-Hydro Renewable Generation.⁵⁰ All three subfunctions include the following seven accounts consistent with the other subfunctions (e.g., Steam, Nuclear, and Hydraulic): (1) Accounts 558.1, 558.20, and 559.1 (Operation Supervision and Engineering); (2) Accounts 558.4, 558.23, and 559.4 (Rents); (3) Accounts 558.5, 558.24, and 559.5 (Operation Supplies and Expenses (Nonmajor only)); (4) Accounts 558.6, 558.25, and 559.6 (Maintenance Supervision and Engineering (Major only)); (5) Accounts 558.7, 558.26, and 559.7 (Maintenance of Structures (Major only)); (6) Accounts 558.16, 558.36, and 559.15 (Maintenance of Miscellaneous (Solar, Wind, or Other Non-Hydro Renewable) Generation Plant (Major only)); and (7) Accounts 558.17, 558.37, and 559.16 (Maintenance of (Solar, Wind, or Other Non-Hydro Renewable) Generation Plant (Nonmajor only)).⁵¹ These accounts have similar descriptions, items, and instructions to existing accounts.

⁵⁰ NOPR, 180 FERC ¶ 61,050 at P 38.

⁵¹ Item 7 includes three accounts that are designated as nonmajor only. Nonmajor entities would therefore record all maintenance activities in these accounts without the added granularity required for major entities (Items 1-6).

26. The Commission also proposed four additional maintenance accounts for Solar and Wind Generation subfunctions, but not for the Other Non-Hydro Renewable Production subfunction: ⁵² (1) Accounts 558.9 and 558.29 (Maintenance of Collector Systems (Major only)); (2) Accounts 558.10 and 558.30 (Maintenance of Generator Step-up Transformers (Major only)); (3) Accounts 558.11 and 558.31 (Maintenance of Inverter Expenses (Major only)); and (4) Accounts 558.12 and 558.32 (Maintenance of Other Accessory Electrical Equipment (Major only)).⁵³ These accounts allow for recording maintenance expenses for the associated plant accounts for Solar and Wind Production. The proposed list of items for Accounts 558.9 and 558.29 (Maintenance of Collector Systems (Major only)) are similar to the list of items for Account 593 (Maintenance of Overhead Lines (Major only)) in the Distribution Expenses function.

⁵² While wind and solar are distributive in design (i.e., with a collector system spread across a comparatively wide area), other renewables are, as currently conceived, unlikely to be distributive in design. These non-distributive renewable plants, similar to existing coal, oil, nuclear, and gas plants, do not have collector systems. In addition, their generator step-up transformers and inverters are comparatively minor integrated parts.

⁵³ NOPR, 180 FERC ¶ 61,050 at P 39.

27. The Commission also proposed new operating expense accounts for the main operating costs of the new production subfunctions: for Solar Generation, Account 558.2 (Solar Panel Generation and Other Plant Operating Expenses (Major only)); for Wind Generation, Account 558.21 (Wind Turbine Generation and Other Plant Operating Expenses (Major only)); and for Other Non-Hydro Renewable Generation, Account 559.2 (Other Miscellaneous Generation and Other Plant Operating Expenses (Major only)), and Account 559.3 (Fuel).⁵⁴

⁵⁴ Id. P 40.

28. In addition, the Commission proposed new maintenance accounts for specific generation assets: for Solar Generation, Account 558.8 (Maintenance of Solar Panels (Major only)); for Wind Generation, Account 558.27 (Maintenance of Wind Turbines, Towers and Fixtures (Major only)); and for Other Non-Hydro Renewable Generation, Account 559.9 (Maintenance of Boilers (Major only)), and Account 559.10 (Maintenance of Generating and Electric Equipment (Major only)).⁵⁵ These new accounts have similar descriptions and instructions to maintenance accounts for generation equipment in the other subfunctions. The Commission proposed to designate an account for maintenance of electrical equipment separate from the maintenance of generation equipment for the new Solar and Wind Generation subfunctions.

⁵⁵ Id. P 41.

29. Further, the Commission proposed new accounts for the Maintenance of Computer Hardware (Major only), the Maintenance of Computer Software (Major only), and Maintenance of Communication Equipment (Major only) for the three new plant subfunctions (Solar, Wind, and Other Non-Hydro Renewable Generation) corresponding to the plant accounts, as discussed further below.⁵⁶

⁵⁶ Id. P 42.

30. Lastly, the Commission sought comment on several topics.⁵⁷ First, to avoid confusion with the existing “Other Production” generation subfunction, the Commission sought comment on whether to retitle that subfunction to “Prime Mover Production” because the current instructions to the “Other Production” subfunction only describe prime mover-type generation assets.⁵⁸ Second, noting that the USofA does not currently address kinetic energy from the ocean to generate electricity,⁵⁹ the Commission sought comment on whether to include both tidal and wave energy as part of the existing Hydraulic Production function, rather than in the newly proposed other non-hydro renewable asset accounts. Third, the Commission sought comment on whether the Commission's Chief Accountant should issue accounting guidance for hydrogen, and whether it would be helpful to propose revisions to the USofA for natural gas pipelines to account for hydrogen activities.

⁵⁷ Id. PP 34, 43, 68.

⁵⁸ A prime mover electric generator is one where the fuel source directly moves the electric turbine rather than using a boiler or other secondary energy transfer.

⁵⁹ See EEI NOI Comments at 4-5.

2. Comments

31. Dominion and Utility Associations support the addition of new accounts for non-hydro renewable generating assets.⁶⁰ Clean Energy Associations contend that confusion and inconsistency in recording renewable energy assets could be resolved at lesser cost by clarifying that specific existing USofA accounts should be used, but support the Commission's proposed accounts for wind turbines (Account 338.23); solar panels and related racking and trackers (Account 338.4); inverters and converters (Account 338.28); individual, low-voltage step-up transformers (Accounts 338.6 and 338.26); AC collector systems (Accounts 338.5 and 338.26); and Static capacitors (Account 338.5).⁶¹

⁶⁰ Dominion NOPR Comments at 3; Utility Associations NOPR Comments at 7.

⁶¹ Clean Energy Associations NOPR Comments at 6.

32. Commenters also suggest specific revisions to the NOPR proposal. First, Clean Energy Associations raise concerns that the NOPR proposed separate accounts for some equipment that is infrequently itemized by manufacturers and typically retired together.⁶² For wind facilities, Clean Energy Associations accordingly recommend that the Commission consolidate proposed Account 338.23 (Wind Turbines) and Account 338.24 (Wind Towers and Fixtures) into a single account for the wind turbine generator, tower, pad-mounted or nacelle-mounted transformer, and foundation. Further, they argue that reporting wind towers and turbines together would be consistent with Electric Plant Instruction No. 3, Item 8, Part B, which states “[t]he cost of specially provided foundations not intended to outlast the machinery or apparatus for which provided, and the cost of angle irons, castings, etc., installed at the base of an item of equipment, shall be charged to the same account as the cost of the machinery, apparatus, or equipment.” ⁶³ For solar facilities, Clean Energy Associations suggest that the Commission consolidate solar inverter and power station transformer costs into the same account.⁶⁴ In the alternative, Clean Energy Associations request that the Commission specify how costs should be recorded when manufacturers or contractors do not itemize them separately.

⁶² Id. at 13-14, 19.

⁶³ 18 CFR part 101, Electric Plant Instruction No. 3, Item 8, Part B.

⁶⁴ Clean Energy Associations NOPR Comments at 13-14.

33. Next, Clean Energy Associations make several comments related to recording collector system costs.⁶⁵ First, Clean Energy Associations note inconsistencies in the collector system definitions for Solar Production and Wind Production subfunction accounts, Account 338.5 and Account 338.26, respectively—both between the two and compared with conventional generation accounts. Between the two new Collector System account definitions, Clean Energy Associations suggest revising the definition of the collector system for wind generation in Account 338.26 to mirror the proposed definition for solar generation, which reads: “This account shall include all cost of cabling, junction boxes, connection cabinets, and all facilities and devices (such as static capacitors) that are used to transport and consolidate the power fed from individual wind turbine generators, once it has been stepped-up, to the substation prior to interconnection to the grid.”

⁶⁵ Id. at 11-12.

34. Further, Clean Energy Associations request that the Commission identify an account for collector system substation costs.⁶⁶ Clean Energy Associations recommend that the Commission adopt a separate Production Plant account for the substation similar to the collector system or clarify the definition of the collector system to include the specific items that are part of the collector system substation.

⁶⁶ Id. at 7-8.

35. Clean Energy Associations also suggest that the Commission consolidate treatment of static capacitors and reactors in the same account.⁶⁷ While the NOPR proposed requiring solar system capacitor reporting in Account 338.5 (Collector System) and reactor reporting in Account 338.8 (Other Accessory Electrical Equipment), Clean Energy Associations suggest that no distinction between the two technologies is needed. Specifically, Clean Energy Associations suggest that if the Commission intends to include all of the plant from the high side of the individual, low-voltage step-up transformers located at the inverter power stations and/or the wind turbines to the low side of the Main Power Transformer (MPT) at the substation (for a transmission interconnection) or interconnection with the grid (for a distribution interconnection), it should include both capacitors and reactors connected to the collector system in the definition for the Collector System account. Further, Clean Energy Associations note the need for the Commission to make the same determination for wind generation, which also may use static capacitors and reactors, but is not included in the proposed amendment to the USofA.

⁶⁷ Id. at 6-7.

36. Clean Energy Associations next suggest that the Commission clarify the end-point of the collector system and adopt definitions that run from inverters or wind turbines up to but not including the MPT, consistent with comparable equipment for conventional generation.⁶⁸ According to Clean Energy Associations, the NOPR's solar and wind collector system definitions appear to go beyond the MPT, while conventional generation connects generators to the MPT via connection facilities that end at the low side of the MPT.

⁶⁸ Id. at 12.

37. In addition, Clean Energy Associations request that the Commission establish a separate Production Plant account to house the installed cost of the DC collector system, or clarify that the cost should be reported to Other Accessory Electric Equipment in proposed Account 338.8.⁶⁹ According to Clean Energy Associations, the DC collector system does not fit within the NOPR's definitions for proposed Account 338.4 (Solar Panels) nor Account 338.5 (Collector System), which they understand to be limited to the AC collector system connected to the high side of the inverter power station transformer.

⁶⁹ Id. at 8-9.

38. Clean Energy Associations further request that the Commission clarify the exact equipment that should be included in the Other Accessory Equipment accounts for both solar and wind, especially given overlap with the proposed Collector System accounts.⁷⁰

⁷⁰ Id. at 17-18.

39. The Commission also received comments on the NOPR's proposed accounts for GSU. Utility Associations note a potential inconsistency between the NOPR's proposed GSU definition and Kentucky Utilities Company's instruction that “GSU transformers are not used in the generation of power and thus should not be booked to production plant accounts” (although their costs may be assigned to production through the ratemaking process).⁷¹ The Commission proposed to include GSU transformers on the low side of the collector system in new Solar Production and Wind Production subfunction accounts.⁷² Utility Associations ask the Commission to reconcile this proposal with Kentucky Utilities Company's instruction.

⁷¹ Utility Associations NOPR Comments at 7-8 (citing Kentucky Utilities Co., 85 FERC ¶ 61,274, at 62,112 n.37 (1998) (Opinion No. 432)).

⁷² NOPR, 180 FERC ¶ 61,050 at P 36; see also id., proposed Accounts 338.6 and 338.27.

40. Clean Energy Associations, for their part, suggest that the Commission revise the proposed GSU account definitions to include all transformer devices up to and including the MPT housed in the substation—that is, GSUs on the high side of the of the collector system in addition to those on the low side.⁷³ Clean Energy Associations also cite to Kentucky Utilities Company,⁷⁴ the Commission's characterization of Kentucky Utilities Company in Pacific Gas & Electric Co.,⁷⁵ and Order No. 827,⁷⁶ to argue that the Commission should expand its GSU accounts to include the substation MPT and equipment located beyond the high side of the substation MPT.

⁷³ Clean Energy Associations NOPR Comments at 9-10.

⁷⁴ Id. at 9 (citing Opinion No. 432, 85 FERC at 62,112 n.36 (“[T]he GSU serves no purpose without the generator, and the generator cannot transform power to the transmission-level voltage without the GSU.”)).

⁷⁵ Id. at 10 (citing Pacific Gas & Electric Co., 106 FERC ¶ 61,144, at P 19 (2004) (“GSU transformers . . . are located at generation stations and [are] used solely to increase the voltage of electric energy produced by generators to the higher voltages necessary for bulk power transmission to load centers.”)).

⁷⁶ Id. (citing Reactive Power Requirements for Non-Synchronous Generation, Order No. 827, 81 FR 40793 (June 23, 2016), 155 FERC ¶ 61,277, at P 13 n.31 (2016) (“[T]he generator substation would be the substation for a wind [or solar] generator that separates the low-voltage collector system from the higher voltage elements of the Interconnection Customer Interconnection Facilities that bring the generator's energy to the Point of Interconnection.”)).

41. Clean Energy Associations also request clarification about where and how the substation MPT and equipment located beyond the high side of the substation MPT should be recorded.⁷⁷ Clean Energy Associations suggest that the proposed collector system definitions in Accounts 338.5, 338.26, and 387.5 overlap with the description for Station Equipment in existing Account 353.

⁷⁷ Id. at 10-11 (citing NOPR proposed Accounts 338.5, 338.26, and 387.5 (“This account shall include all cost of cabling, junction boxes, connection cabinets, and all facilities that are installed beyond the high side of the GSU transformer and the transmission or distribution point of interconnection.”) and 18 CFR part 101, Account 353 (“This account shall include the cost installed of transforming, conversion, and switching equipment used for the purpose of changing the characteristics of electricity in connection with its transmission or for controlling transmission circuits.”)).

42. Clean Energy Associations further request clarification related to reporting different types of land and construction costs for non-hydro renewable generation projects.⁷⁸ Clean Energy Associations suggest that the Commission define or affirm that it is appropriate to allocate the clearing and grading, permitting, and site civil costs across all direct costs (including both structures and equipment accounts). Specifically, Clean Energy Associations suggest clarifying that it is appropriate to report: (1) improvement and equipment costs comparably to USofA Electric Plant Instruction Nos. 8(A) and 9(A) across all direct costs; (2) permits and privileges in accordance with the booking of the associated plant for which the permit is sought; and (3) land option payments that permit site access, investigation, and permit applications and/or land lease payments during the construction period as privileges and permits under Electric Plant Instruction No. 3, Components of Construction Cost, Item 9, or expenses during construction under Electric Plant Instruction No. 3.

⁷⁸ Id. at 15-17.

43. In addition, several commenters comment on the NOPR's proposed O&M accounts. Utility Associations suggest that wind and solar plants are simpler to operate than other types of generating plant, with less distinguishable labor, and therefore require fewer O&M accounts to support them than traditional generation assets.⁷⁹ They therefore argue that the Commission should limit the creation of new O&M accounts for non-hydro renewables to those listed in Appendix A to their comments. Dominion argues that the Commission should create a robust list of maintenance accounts sufficient to meaningfully segregate costs.⁸⁰ Relatedly, Dominion opposes elimination of the miscellaneous expense account for each type of renewable energy in order to preserve a place for expenses that do not clearly fall within other specified accounts. Clean Energy Associations, for their part, agree with the NOPR's proposed O&M accounts, but urge the Commission to clarify that the operations and maintenance costs are related to Plant booked to Production Accounts.⁸¹ Clean Energy Associations raise the need for this clarification because, while the NOPR suggests that its four proposed maintenance accounts “would allow for the recording of maintenance expense for the associated plant accounts for Solar and Wind Production,” it also suggests that maintenance of the collector system “would be similar to the list of items for Account 593 (Maintenance of Overhead Lines) (Major Only)) in the Distribution Expense function” and describes wind and solar collector systems as “distributive in design. . . .” ⁸²

⁷⁹ Utility Associations NOPR Comments at 7, app. A.

⁸⁰ Dominion NOPR Comments at 3.

⁸¹ Clean Energy Associations NOPR Comments at 19-20.

⁸² Id. (citing NOPR, 180 FERC ¶ 61,050 at P 39 n.78).

44. Commenters also responded to the NOPR's request for comment on renaming the Other Production account, how to account for tidal and wave technologies, and hydrogen accounting guidance. Utility Associations oppose the NOPR's proposal to retitle “Other Production” to “Prime Mover Production.” ⁸³ Utility Associations suggest that retaining the “Other Production” account will preserve existing flexibility for recording assets in the face of technological change to record future production assets that do not meet the definition of either prime movers or renewable generating assets.

⁸³ Utility Associations NOPR Comments at 7.

45. Regarding the NOPR's request for comment on hydrogen technologies, Utility Associations and Carl Pechman both request guidance on accounting for hydrogen facilities.⁸⁴ Utility Associations suggest that hydrogen equipment costs should be recorded to Account 339.12 (Miscellaneous Power Plant Equipment) while hydrogen fuel costs should be recorded to Account 547 instead of Account 559.3.⁸⁵ And, while Utility Associations believe that it is currently premature to propose new public utility accounts specifically for hydrogen use in the electricity industry, they suggest that new natural gas pipeline accounts are needed to record the investments and operating expenses incurred for hydrogen. They therefore recommend that the Commission update the USofA for natural gas pipelines to include a list of proposed accounts in Appendix B to their comments.⁸⁶

⁸⁴ Carl Pechman NOPR Comments at 3-4; Utility Associations NOPR Comments at 9-11.

⁸⁵ Utility Associations NOPR Comments at 9-11.

⁸⁶ Those accounts include: (1) Gas Plant Accounts as Section D—Hydrogen and Other Renewables under Natural Gas Storage and Processing Plant: (a) Land and land rights, (b) Structures and improvements, (c) Hydrogen generation and conversion equipment, (d) Hydrogen storage equipment, (e) Biogas cleaning and conditioning equipment, (f) Other renewable equipment, (g) Compression and power equipment, (h) Measuring and regulating equipment Pipelines, (i) Other equipment Gas Expense; (2) Accounts as Section D—Hydrogen and Other Renewables under Natural Gas Storage Terminaling and Processing Expense: (a) Operation: (i) Operation supervision and engineering, (ii) Hydrogen equipment and storage expense, (iii) Biogas Equipment expense, (iv) Other renewable equipment expense, (v) Compression and power equipment expense, (vi) Measuring and regulating equipment expense, (vii) Pipelines expense, (viii) Other hydrogen and renewables operating expense, and (b) Maintenance: (i) Maintenance supervision and engineering, (ii) Maintenance of structures and improvements, (iii) Maintenance of hydrogen equipment and storage, (iv) Maintenance of biogas and other renewable equipment, (v) Maintenance of compression and power equipment, (vi) Maintenance of measuring and regulating equipment, and (vii) Maintenance of pipelines Maintenance of other equipment. Id., at app. B.

46. Last, regarding the NOPR's request for comment on tidal and wave technologies, Carl Pechman advocates for the Commission to adopt a forward‐looking policy of developing accounting provisions for new resources that treats tidal and wave energy activities as a type of other renewable production rather than including it within existing Hydraulic Production accounts.⁸⁷

⁸⁷ Carl Pechman NOPR Comments at 4.

3. Commission Determination

47. We adopt the NOPR's proposals to create new Production Plant subfunctions and associated accounts, with minor revisions, as discussed below. We disagree with Clean Energy Associations that accounting treatment clarity and transparency can be adequately provided at lesser administrative burden through issuance of accounting guidance instead of creating new renewable subfunctions.⁸⁸ The existing Other Production subfunction no longer fully accommodates the specificities of modern renewable generation systems. For instance, no existing Other Production account describes the function that collector systems provide to wind and solar farms—consolidating power from individual turbines or panels before interconnection to the grid. The Commission typically uses accounting guidance to clarify how best to account for an item among several available accounts. Creating new Wind Production, Solar Production, and Other Renewable Production subfunctions is therefore necessary to provide uniformity, consistency, and transparency to reduce risk of errors in accounting and reporting.

⁸⁸ See Clean Energy Associations NOPR Comments at 6.

48. First, we adopt the NOPR's proposals to separate reporting of wind towers, turbines, foundations, and transformers. Wind towers, turbines, foundations, and transformers are different items with separate purposes and potentially distinct service lives, and should therefore be tracked in separate accounts. While Clean Energy Associations note that these assets are often retired together,⁸⁹ we have assessed that these assets may feature distinct depreciation lives supporting separate accounts. We also note that, while vendor invoices are used for recording costs in construction work in progress that becomes plant in service, these invoices do not determine the unitization of plant in service by account under the USofA instructions.⁹⁰

⁸⁹ Id. at 13, 19.

⁹⁰ Costs included in capitalization are explained in 18 CFR part 101, Electric Plant Instruction Nos. 1. Classification of electric plant at effective date of system of accounts (Major utilities), 2. Electric Plant to Be Recorded at Cost, 3. Components of construction cost, and 4. Overhead Construction Costs.

49. We also adopt the NOPR's proposal to create separate GSU and inverter accounts within the Solar Production subfunction. Like the wind turbine, tower, foundation, and transformer accounts, establishing separate accounts is warranted because solar inverters are both separate equipment from, and do not serve the same function as, power station transformers. We note that we do not control how vendors describe the work performed during construction on invoices, and the company unitizes the costs (into retirement units) after the project is closed and records the costs to the appropriate plant accounts. Again, we reiterate that vendor invoices may inform about certain activities performed during construction, but asset unitization is performed when the project is complete and available to be placed in service.

50. In addition, we adopt the NOPR's proposal to create Collector System accounts within the new Solar Production and Wind Production subfunctions. However, we also agree with Clean Energy Associations that the definitions of the proposed collector systems in Account 338.5 and Account 338.26 require certain revisions for consistency.⁹¹ We have revised the Wind Production subfunction Account 338.26 definition (and the Energy Storage function Account 387.5 definition) to mirror the Solar Production collector system definition in Account 338.5.

⁹¹ See Clean Energy Associations NOPR Comments at 11-12.

51. We decline to grant Clean Energy Associations' request that we adopt a separate Production Plant account for the substation.⁹² This equipment should be recorded either to Account 353 (Station Equipment) for transmission, or Account 362 (Station Equipment) for distribution. We note that transmission-level substations have historically been, and will remain, considered transmission plant for accounting purposes. While we recognize that this classification may be inconvenient for utilities that otherwise own only Generation or General Plant function assets, the true function of the substation—providing transmission-level voltage to a wire system—governs its classification.

⁹² See id. at 7-8.

52. However, we grant several of Clean Energy Associations' requests for clarification,⁹³ and so clarify account text as described herein. First, we have revised the Collector System account definitions to include static capacitors and reactors in the same account because they serve similar functions within collector systems. We note, however, that reactors can serve multiple purposes and are therefore listed in multiple accounts, and should be recorded to the appropriate account based on their operational purpose. Second, we have revised the new Collector System account definitions (Accounts 338.5 and 338.26, as well as Account 387.5 in the new energy storage function) to indicate that: (1) the collector system end-point extends up to, but does not include, the substation prior to interconnection to the grid; and (2) to exclude the cost of transformers and other equipment used to interconnect to transmission or distribution lines. We agree with Clean Energy Associations that this revision is needed to harmonize the solar and wind collector system definitions with our existing accounts for conventional generation. Third, we clarify that DC collector systems should be recorded in the Collector System accounts and revise the Account 338.5 and 338.26 definitions to remove “once it has been stepped up.” This revision resolves confusion and furthers the NOPR's intent to include DC collector systems within the Collector System account definitions.

⁹³ See id. at 7 (suggesting inclusion of static capacitors and reactors in the same account), 12 (requesting clarification on the collector system end point), 8-9 (requesting clarification on DC collector system recording).

53. Next, we decline to provide an exhaustive list of the equipment that should be recorded in the Other Accessory Electrical Equipment accounts.⁹⁴ We reiterate that operational purpose of equipment, rather than equipment name, determines appropriate account classification, and that account equipment lists are meant to be illustrative, not prescriptive. Attempting to provide an exhaustive list of equipment to be recorded to the Other Accessory Electrical Equipment account risks over- and under-inclusion of equipment that should be booked to that account based on functional purpose. To further clarify the purposes of each account, we have revised their definitions and instructions to emphasize that Collector System accounts are for equipment used to transport and consolidate the power fed from individual generation units (solar panels, wind turbines), while the equipment recorded in the Other Accessory Electrical Equipment account supports the generator in the action of generating power.

⁹⁴ See id. at 17-18 (requesting specification of all equipment that should be recorded in Other Accessory Equipment accounts).

54. We also adopt the NOPR's proposal to create GSU accounts within the new Wind Production and Solar Production subfunctions. We note that, despite commenters' suggestion to the contrary,⁹⁵ this decision is consistent with Commission precedent in Kentucky Utilities Company.⁹⁶ There, the Commission considered whether the costs of GSU transformers that step up voltage to the transmission system ⁹⁷ should be included in transmission rates. It determined that, while the costs of such GSU transformers should be assigned to generators for rate purposes,⁹⁸ for accounting purposes “GSU transformers are not used in the generation of power, and thus should not be booked to production accounts.” ⁹⁹

⁹⁵ See Clean Energy Associations NOPR Comments at 9-10; Utility Associations NOPR Comments at 7-8.

⁹⁶ See Opinion No. 432, 85 FERC ¶ 61,274.

⁹⁷ Id. at 62,109 n.33 (“A GSU transformer is an electrical device that transforms power from a lower voltage to a higher voltage. The GSU transformers in question in this proceeding are those which step-up voltages at the generation level to higher voltages at the [transmission level].”)

⁹⁸ Id. at 62,112.

⁹⁹ Id. at 62,112 n.37.

55. Utility Associations misread Kentucky Utilities Company in arguing that it conflicts with the NOPR's proposed GSU account definitions.¹⁰⁰ They question how the proposed Production Plant GSU accounts are consistent with the Commission's statement in Kentucky Utilities Company that “GSU transformers are not used in the generation of power, and thus should not be booked to production accounts.” ¹⁰¹ This confusion appears to derive from the fact that, unlike traditional generation sources that have a single GSU that steps-up the generator voltage to transmission or distribution levels, renewable plants have two step-up transformers: one GSU located on the low voltage side of the collector system, and another step-up transformer at the substation, that, as in conventional power plants, steps up voltage to connect to the transmission or distribution system. While these assets are both step-up transformers, they serve different functional purposes—and therefore should be reported to different accounts. The GSU transformers at issue in Kentucky Utilities Company stepped up voltage to the transmission system.¹⁰² The GSU accounts that we create here for the new Solar Production and Wind Production subfunctions instead are designated for transformers that step up voltage to support the collector systems. These GSUs do not directly interconnect with transmission and distribution power grids. Therefore, Kentucky Utilities Company is inapposite. To further clarify the GSU assets that belong in the new Production subfunction accounts, however, we revise Accounts 338.6 and 338.27 (and Energy Storage function Account 387.6) to expressly exclude transformers and other equipment that step up voltage or frequency for the purposes of transmission or distribution. Those assets are more appropriately included in transmission or distribution Account 353 (Station Equipment) or Account 362 (Station Equipment), respectively.

¹⁰⁰ Utility Associations NOPR Comments at 7-8.

¹⁰¹ Opinion No. 432, 85 FERC at 62,112 n.37.

¹⁰² Id. at 62,109 n.33 (specifying that “[t]he GSU transformers in question in this proceeding are those which step-up voltages at the generation level to higher voltages at the [transmission level].”).

56. Clean Energy Associations also misread Kentucky Utilities Company.¹⁰³ They argue that Kentucky Utilities Company requires the Commission to include the substation MPT and equipment located beyond the high side of the substation MPT within the GSU accounts. In doing so, Clean Energy Associations mistake Kentucky Utilities Company's holding on rate treatment for one applying to accounting treatment. To the contrary, Kentucky Utilities Company expressly forbade recording the cost of GSU equipment beyond the high side of the substation MPT to production plant accounts, even while noting that the GSUs serve generators for rate allocation purposes.¹⁰⁴ Clean Energy Associations' references to Pacific Gas & Electric Co. and Order No. 827 are even less relevant.¹⁰⁵ In Pacific Gas & Electric Co., the Commission distinguished that rate case from Kentucky Utilities Company in finding that the facilities in the two cases were different and held that bulk transmission lines configured as loop facilities should be allocated to transmission rates. The Commission's order in Pacific Gas & Electric Co. said nothing about the accounting treatment for the substation MPT and equipment located beyond the high side of the substation MPT.¹⁰⁶ The Commission's illustrative footnote in Order No. 827, which required non-synchronous generators to provide dynamic reactive power at the high-side of the generator substation,¹⁰⁷ similarly did not disturb our precedent that transformers used to step up voltage for the purpose of transmission or distribution should not be recorded to Production Plant accounts.¹⁰⁸ Therefore, our decision to limit the equipment that is recorded in the new GSU accounts to equipment that steps up voltage on the low side of the MPT is consistent with Commission precedent.

¹⁰³ Clean Energy Associations NOPR Comments at 9-10.

¹⁰⁴ Compare Opinion No. 432, 85 FERC at 62,112 n.37 (“GSU transformers are not used in the generation of power and thus should not be booked to production plant accounts.”) with id. at 62,112 (“[I]t has become increasingly important to recognize the role that GSUs perform in support of generation as it pertains to the allocation of costs.”).

¹⁰⁵ See Clean Energy Associations NOPR Comments at 9-10 (citing Pacific Gas & Electric Co., 106 FERC ¶ 61,144 at P 19 (“GSU transformers . . . are located at generation stations and [are] used solely to increase the voltage of electric energy produced by generators to the higher voltages necessary for bulk power transmission to load centers.”); Order No. 827, 155 FERC ¶ 61,277 at P 13 n.31 (“[T]he generator substation would be the substation for a wind [or solar] generator that separates the low-voltage collector system from the higher voltage elements of the Interconnection Customer Interconnection Facilities that bring the generator's energy to the Point of Interconnection.”).

¹⁰⁶ Pacific Gas & Electric Co., 106 FERC ¶ 61,144 at PP 19-20.

¹⁰⁷ Order No. 827, 155 FERC ¶ 61,277 at P 13.

¹⁰⁸ See Opinion No. 432, 85 FERC at 62,112 n.37 (“GSU transformers are not used in the generation of power and thus should not be booked to production plant accounts.”).

57. In response to Clean Energy Associations' concerns about where to record the substation MPT given alleged conflict between proposed collector system definitions in Accounts 338.5, 338.26, and 387.5 and the Station Equipment in existing Account 353,¹⁰⁹ we note first that Clean Energy Associations misstate the NOPR's proposed collector system definition in Account 338.5.¹¹⁰ The NOPR's Account 338.5 definition does not overlap with the definition of Account 353. As explained above, we have revised the definitions in Accounts 338.26 and 387.5 to align with the definition in Account 338.5 at Clean Energy Associations' request.¹¹¹ This change resolves the overlap with Account 353 that concerned Clean Energy Associations. Equipment at and beyond the substation serve transmission and distribution interconnection functions and should accordingly be recorded in the transmission and distribution accounts.

¹⁰⁹ Clean Energy Associations NOPR Comments at 10-11 (citing NOPR proposed Accounts 338.5, 338.26, and 387.5; 18 CFR part 101, Account 353).

¹¹⁰ Compare NOPR, proposed Account 338.5 (“This account shall include all cost of cabling, junction boxes, connection cabinets, and all facilities and devices (such as static capacitors) that are used to transport and consolidate the power fed from individual solar panels, once it has been stepped-up, to the substation prior to interconnection to the grid.”) with Clean Energy Associations NOPR Comments at 10-11 (quoting NOPR proposed Accounts 338.5, 338.26, and 387.5 text as: “This account shall include all cost of cabling, junction boxes, connection cabinets, and all facilities that are installed beyond the high side of the GSU transformer and the transmission or distribution point of interconnection.”).

¹¹¹ See supra P 50; see also Clean Energy Associations NOPR Comments at 11-12.

58. Regarding Clean Energy Associations' request for clarification on allocation of clearing and grading, permitting, and site civil costs,¹¹² we note that Electric Plant Instruction Nos. 3, 8(A), and 9(A) apply to all plant in service and have for several decades. We do not intend to change application of these instructions in this docket. We find the text of these instructions to be sufficient and do not require modification.

¹¹² See Clean Energy Associations NOPR Comments at 15-17.

59. We also adopt the NOPR's proposal to create O&M accounts to support the new production subfunctions, but we consolidate the specific accounts proposed in response to comments. We are persuaded by Utility Associations' argument that the new generation subfunctions are simpler, and less labor intensive to operate and maintain than steam and nuclear generation, and that therefore the limited rate-setting benefits of separating some of these costs are likely outweighed by the additional burden they create.¹¹³ We believe that the accounts that Utility Associations propose appropriately streamline the O&M accounts while still providing for sufficient detail to meaningfully segregate costs, as requested by Dominion.¹¹⁴ However, we are also persuaded by Dominion's request to retain the miscellaneous maintenance expense accounts to house expenses that do not clearly fall within other specified accounts, and so create a miscellaneous expense account alongside the others proposed by Utility Associations.

¹¹³ See Utility Associations NOPR Comments at 7, app. A.

¹¹⁴ Dominion NOPR Comments at 3.

60. As such, we create only those maintenance accounts recommended by the Utility Associations,¹¹⁵ plus miscellaneous maintenance expense accounts. We therefore also renumber the maintenance accounts. For solar, these accounts will now be numbered as follows: Account 558.7 (Maintenance of Solar Panels, Structures, and Equipment (Major only)), Account 558.8 (Maintenance of Computer Hardware (Major only)), Account 558.9 (Maintenance of Computer Software (Major only)), Account 558.10 (Maintenance of Communication Equipment (Major only)), Account 558.11 (Maintenance of Miscellaneous Solar Generation Plant (Major only)), and Account 558.12 (Maintenance of Solar Generation Plant (Nonmajor only)). For wind, these accounts will now be numbered as follows: Account 558.13 (Operation Supervision and Engineering), Account 558.14 (Wind Turbine Generation and Other Plant Operating Expenses (Major only)), Account 558.15 (Reserved), Account 558.16 (Rents), Account 558.17 (Operation Supplies and Expenses (Nonmajor only)), Account 558.18 (Maintenance Supervision and Engineering (Major only)), Account 558.19 (Maintenance of Wind Turbines, Structures, and Equipment (Major only)), Account 558.20 (Maintenance of Computer Hardware (Major only)), Account 558.21 (Maintenance of Computer Software (Major only)), Account 558.22 (Maintenance of Communication Equipment (Major only)), Account 558.23 (Maintenance of Miscellaneous Wind Generation Plant (Major only)), and Account 558.24 (Maintenance of Wind Generation Plant (Nonmajor only)).

¹¹⁵ We correct the naming convention for the accounts for maintenance of communication equipment to refer to “communication equipment” rather than “communications equipment,” as proposed by Utility Associations, consistent with references to communication equipment accounts throughout this rule and the USofA.

61. In addition, in response to Clean Energy Associations' comment regarding the appropriate function for the new O&M accounts,¹¹⁶ we clarify that operations and maintenance costs are related to Plant recorded to Production Accounts. Our note that collector systems are distributive in design was intended to be illustrative of how these systems operate and not to indicate that collector systems are part of the Distribution Plant function.

¹¹⁶ See Clean Energy Associations NOPR Comments at 19.

62. Next, we address the subjects on which the NOPR requested comment. We are persuaded by Utility Associations' comment that retaining the “Other Production” account will preserve existing flexibility for recording assets in the face of technological change.¹¹⁷ We therefore retain the “Other Production” title for this generation subfunction.

¹¹⁷ See Utility Associations NOPR Comments at 7.

63. In response to comments regarding accounting treatment for tidal and wave resources,¹¹⁸ we have determined that, because these resources do not fit well within the existing Hydraulic Production subfunction, they should be placed within the new Other Renewable subfunction. Accordingly, in this final rule we create an Other Renewable Production subfunction instead of the NOPR's proposed Other Non-Hydro Renewable Production subfunction.

¹¹⁸ Carl Pechman NOPR Comments at 3-4.

64. Lastly, as for hydrogen, we agree with Utility Associations that existing and proposed public utility accounts are sufficient for current and anticipated uses of hydrogen as an electric fuel or energy storage medium and that no new public utility accounts are therefore needed.¹¹⁹ We reiterate that, for either electric generation or energy storage, the recording and reporting of hydrogen specific fuel, equipment, and operations and maintenance expenses should follow the most appropriate account instructions for the function it is used to fulfill.

¹¹⁹ Utility Associations Comments at 9.

65. Finally, we will not at this time propose additional guidance for electric utility hydrogen reporting or new natural gas pipeline hydrogen accounts. We will consider the need for such additional guidance and natural gas pipeline USofA revisions in separate proceedings, as necessary.

B. Creation of Energy Storage Function and Accounts

1. NOPR

66. The Commission proposed a new USofA function for energy storage in order to reduce recordkeeping, depreciation, and retirement burden and opportunity for error deriving from energy storage reporting across generation, transmission, and distribution functions.¹²⁰ The Commission proposed to structure the new Energy Storage Plant function similar to those for other USofA functions, including the new wind, solar, and other renewable subfunctions, as follows: (1) Account 387.1 (Land and Land Rights); (2) Account 387.2 (Structures and Improvements); (3) Account 387.11 (Miscellaneous Energy Storage Equipment); (4) Account 387.12 (Asset Retirement Costs for Energy Storage); (5) Account 387.5 (Collector System); (6) Account 387.6 (Generator Step-up Transformers (GSU)); and (7) Account 387.7 (Inverters). The Commission also proposed to add a new Account 387.3 (Energy Storage Equipment), which would include the primary energy storage equipment in this function as described in the proposed instructions. In addition, the Commission proposed to create Energy Storage function plant accounts for computer hardware, software, and communication equipment, as described below.

¹²⁰ NOPR, 180 FERC ¶ 61,050 at PP 44, 48-49.

67. The Commission further proposed to create an Energy Storage Expense function within the Operation and Maintenance Expense Chart of Accounts, including: (1) Account 577.1 (Operation Supervision and Engineering); (2) Account 577.4 (Rents); (3) Account 577.5 (Operation Supplies and Expenses (Nonmajor only)); (4) Account 578.1 (Maintenance Supervision and Engineering (Major only)); (5) Account 578.2 (Maintenance of Structures (Major only)); (6) Account 578.4 (Maintenance of Collector Systems (Major only)); (7) Account 578.5 (Maintenance of Generator Step-up Transformers (Major only)); (8) Account 578.6 (Maintenance of Inverter Expenses (Major only)); (9) Account 578.10 (Maintenance of Miscellaneous Other Energy Storage Plant (Major only)); (10) Account 578.11 (Maintenance of Other Energy Storage Plant (Nonmajor only)); (11) Account 577.2 (Operation of Energy Storage Equipment (Major only)); (12) Account 577.3 (Storage Fuel); and (13) Account 578.3 (Maintenance of Energy Storage Equipment (Major only)) (as well as the computer hardware, software, and communication equipment accounts described below).¹²¹ Lastly, the Commission proposed reclassifying pumped storage to be recorded within the Energy Storage function of the USofA rather than the Hydraulic Production subfunction.

¹²¹ Id. PP 50-51.

2. Comments

68. Utility Associations and Clean Energy Associations support the NOPR's proposal to establish a separate function for Energy Storage.¹²² Utility Associations, however, propose three revisions regarding Energy Storage related to functional reporting, O&M accounts, and pumped storage.

¹²² Clean Energy Associations NOPR Comments at 5; Utility Associations NOPR Comments at 11.

69. First, Utility Associations request removal of subpart c from Account 387.3, which would require accounting records to show monthly functional activity of storage assets, as well as the NOPR's proposed functional MWh reporting on pages 414-16 of Form No. 1.¹²³ Utility Associations argue that these requirements conflict with the goal that motivated moving energy storage to a separate function—removing burdensome requirements to track and frequently reclassify storage assets based on changes in function.¹²⁴ Rather, Utility Associations recommend following Order No. 784's approach of allowing the accounting for energy storage assets that serve more than one function to follow the allocation decisions made in the relevant rate proceedings.

¹²³ Utility Associations NOPR Comments at 11-12.

¹²⁴ Id. at 11 (citing NOPR, 180 FERC ¶ 61,050 at P 45 (explaining that “[b]y creating one new dedicated storage function, utilities would no longer be required to track and frequently reclassify storage assets based on changes in function, and thus, after the initial burden to implement the changes proposed to be adopted here, the continuing compliance burden would be significantly reduced.”)).

70. Further, as for the renewables O&M accounts, Utility Associations suggest that, given the relative simplicity of energy storage operations and maintenance, the Commission should limit the energy storage O&M accounts to those listed in Appendix A to their comments.¹²⁵

¹²⁵ Id. at 13, app. A.

71. Lastly, Utility Associations recommend against reclassifying pumped storage assets to the new Energy Storage function.¹²⁶ Utility Associations explain that pumped storage is not a new technology and fits more naturally within existing hydroelectric generation accounts given similarities in the lives of the facilities, permitting processes, engineering, operation, and staffing.

¹²⁶ Id. at 13.

3. Commission Determination

72. We adopt the NOPR's proposal to establish a separate function for Energy Storage, with a few revisions, discussed below.

73. We agree with Utility Associations that the proposed instructions to subpart c of Account 387.3 and the associated reporting on pages 414-16 of the FERC Form No. 1 are needlessly burdensome and contrary to the purpose of this final rule, and thus remove them.¹²⁷

¹²⁷ See id. at 11-12.

74. We are also again persuaded by Utility Associations to consolidate the list of O&M accounts that we create for energy storage given the comparative operational simplicity of storage systems,¹²⁸ similar to our consolidation of the renewable production O&M accounts.¹²⁹ However, we add a miscellaneous maintenance account to the list proposed by Utility Associations. The new accounts will now be as follows: Account 578.2 (Maintenance of Energy Storage Equipment and Structures (Major only)), Account 578.3 (Maintenance of Computer Hardware (Major only)), Account 578.4 (Maintenance of Computer Software (Major only)), Account 578.5 (Maintenance of Communication Equipment (Major only)), Account 578.6 (Maintenance of Miscellaneous Other Energy Storage Plant (Major only)), and Account 578.7 (Maintenance of Other Energy Storage Plant (Nonmajor only)).

¹²⁸ Again we correct the naming convention for the account for maintenance of communication equipment to refer to “communication equipment” rather than “communications equipment,” as proposed by Utility Associations, consistent with references to communication equipment accounts throughout this rule and the USofA.

¹²⁹ See Utility Associations NOPR Comments at 13.

75. Last, we are persuaded by Utility Associations' request not to reclassify pumped storage assets to the new Energy Storage function.¹³⁰ We agree with Utility Associations that pumped storage assets better fit within existing hydroelectric production accounts given the nature of these assets. This decision is particularly reasonable given our prior decision to streamline the Energy Storage function O&M accounts that we otherwise create in this final rule—the hydroelectric O&M accounts are better tailored to the relative complexity of operating and maintaining pumped storage assets.

¹³⁰ See id.

C. Accounting Treatment for Renewable Energy Credits

1. NOPR

76. The Commission proposed a number of USofA revisions to codify treatment of RECs.¹³¹ The Commission proposed to retitle General Instruction No. 21 (Allowances) to Allowances and Renewable Energy Credits (RECs), and to update the instruction to include REC reporting and correct typos. These proposed revisions include: (1) proposing to remove the reference to the Clean Air Act in Part A to make the instruction less restrictive and adding reference to the proposed new accounts described below; (2) moving the last sentence of Part A to the beginning of Part B; (3) amending Parts A and C to refer to historical cost to make the instruction consistent with other existing regulatory text in the USofA; ¹³² (4) correcting Part D to remove an erroneous repeated reference to “from inventory”; (5) updating the text in Part E to include references to RECs in addition to allowances and in Part F to clarify the inventory accounting for RECs; (6) replacing the language included in existing Part G with language that would instead provide guidance for cases in which allowances and RECs may be considered as prepayments; (7) moving the existing language in Part G addressing penalties to Part H, and removing the reference to the EPA to make the instruction applicable to similar items created by other regulatory bodies; (8) moving and updating the existing language in Part H to a newly proposed Part I that would address gains and losses on dispositions of allowances and RECs; and (9) adding a new Part J that would address the revenues for RECs associated with the sale of energy.

¹³¹ NOPR, 180 FERC ¶ 61,050 at P 52.

¹³² 18 CFR part 101, General Instruction No. 21 (Allowances).

77. Similarly, the Commission proposed to revise the text to Accounts 158.1 (Allowance Inventory) and 158.2 (Allowances Withheld) to remove references to the Environmental Protection Agency, to reference historical cost, and to include a new note to address prepayments in accordance with the proposed text in General Instruction No. 21.¹³³ The Commission also proposed to renumber Account 509 (Allowances) to Account 509.1, delete the reference to sulfur dioxide in that account, and create for RECs two new inventory accounts and, under the Steam Power Generation subfunction, two new expense accounts: Account 158.3 (Bundled Renewable Energy Credits Inventory), Account 158.4 (Unbundled Renewable Energy Credits Inventory), Account 509.2 (Bundled Renewable Energy Credits), and Account 509.3 (Unbundled Renewable Energy Credits).¹³⁴ And, consistent with the newly proposed instructions in Part I of General Instruction No. 21, the Commission proposed to add Account 411.11 (Gains from the Disposition of RECs) and Account 411.12 (Losses from the Disposition of RECs). Last, the Commission clarified that the Commission considered RECs to be inventory, and noted that Commission accounting and reporting regulations trump conflicting regulations by other accounting authorities.

¹³³ NOPR, 180 FERC ¶ 61,050 at PP 53-57.

¹³⁴ We use the term “bundled” to convey that the RECs are sold with their associated energy, and the term “unbundled” to convey that the RECs are sold separately from the energy.

2. Comments

78. Five parties commented on the NOPR's proposal to codify accounting treatment for RECs. These comments address: (1) the need for revisions or additional accounts to capture information on a broader range of credit mechanisms; (2) placement of REC expense accounts within the USofA; (3) interaction with REC treatment by other governing bodies; and (4) timing questions related to implementation, recovery, and REC expiration. RESA notes the similarities between the NOPR's REC proposals and those recommended by RESA in emphasizing its support for the NOPR overall.¹³⁵ PG&E and SDG&E, Utility Associations, and Dominion, however, suggest that the Commission host a technical conference on REC accounting treatment to ensure workability in light of the diversity of REC instruments.¹³⁶

¹³⁵ RESA NOPR Comments at 5.

¹³⁶ Dominion NOPR Comments at 4-5; PG&E and SDG&E NOPR Comments at 1, 2, 5; Utility Associations NOPR Comments at 18.

79. Utility Associations and Carl Pechman request revisions to the NOPR's proposals to capture data on utilities' investments in a broader range of environmental credit mechanisms. Utility Associations argue that the proposed retitling of General Instruction No. 21 to Allowances and Renewable Energy Credits and corresponding changes to the text of the instruction and related accounts do not fully reflect the scope of developments in the industry.¹³⁷ Rather, Utility Associations recommend that the Commission extend the provisions of the USofA to consider a broader variety of environmental credits that are either used to: (1) avoid or reduce greenhouse gas emissions to the atmosphere; or (2) convey environmental attributes of renewable electricity generation. Utility Associations also suggest that the Commission could use a proposed technical conference to further identify underlying characteristics of these types of instruments that, if met, would qualify for accounting in the same manner as allowances and RECs. Carl Pechman echoes this request, suggesting broadening new account definitions to incorporate Zero Emissions Credits (ZEC) and carbon offsets.¹³⁸

¹³⁷ Utility Associations NOPR Comments at 19-20.

¹³⁸ Carl Pechman NOPR Comments at 1, 4.

80. Carl Pechman further questions the NOPR's proposal to create a single category for “allowances” without more detail.¹³⁹ Carl Pechman suggests accounting for such allowances together without distinction misses an opportunity to make valuable data about utility investments in diverse environmental credits available to Public Utility Commissions and other interested stakeholders.

¹³⁹ Id. at 6-9.

81. Utility Associations also question the placement of the new Allowance expense accounts within the USofA.¹⁴⁰ They recommend that the Commission place the new Allowances account within the Other Power Supply expense subfunction rather than within the Steam Power Generation subfunction. Utility Associations explain that, because RECs, unlike sulfur dioxide allowances, typically do not derive from steam power generation, the Steam Power Generation subfunction is not an appropriate place for those costs to be reported.

¹⁴⁰ Utility Associations NOPR Comments at 20-21.

82. In addition, some commenters voice concerns about alignment between the NOPR's REC accounting treatment and that of other regulatory bodies. First, several commenters urge the Commission to consider the Financial Accounting Standards Board's ongoing work to address the underlying economic and accounting issues associated with RECs (and other similar instruments) before issuing any final rule or guidance.¹⁴¹ Utility Associations further advocate for the Commission to strive to align the final rule's requirements and Generally Accepted Accounting Principles (GAAP), to the extent possible, to avoid costs of dual recordkeeping.¹⁴²

¹⁴¹ Carl Pechman NOPR Comments at 9; PG&E and SDG&E NOPR Comments at 1; Utility Associations NOPR Comments at 18-19.

¹⁴² Utility Associations NOPR Comments at 19.

83. These commenters also made several suggestions with respect to state ratemaking processes. First, PG&E and SDG&E request that the Commission's general instructions concerning REC reporting under the USofA explicitly clarify that RECs recorded to any FERC account are not intended to impact the retail rates of public utilities.¹⁴³ In addition, PG&E and SDG&E request the Commission to explicitly consider instances where regulatory recovery occurs at the time of renewable electric energy production, and reconsider its decision in Order No. 552 precluding the use of inventory methods in Commission filings that reflect the effects of the ratemaking treatment granted by state commissions.¹⁴⁴ PG&E and SDG&E and Utility Associations argue that, where the cost of the REC is bundled with electric energy and recovery from retail customers at the time of renewable electricity energy generation, the Commission should allow the entity to charge the full cost of the bundled product to Account 555 (Purchased Power) at the time of energy usage.¹⁴⁵ Commenters argue that doing so is necessary to ensure that accounting reflects the economic effects of the state ratemaking treatment and that the revenue and expense associated with the RECs match.

¹⁴³ PG&E and SDG&E NOPR Comments at 2-5.

¹⁴⁴ Id. at 5.

¹⁴⁵ Id.; Utility Associations NOPR Comments at 22-23.

84. Further, Utility Associations and Dominion comment on the treatment of expired RECs. Utility Associations request specific guidance on how to report expired RECs that are no longer eligible to be used to comply with the applicable renewable energy standard for which they were initially created.¹⁴⁶ They recommend that expired RECs be recorded in Account 411.12, Losses from Disposition of RECs. Dominion emphasizes that RECs may be created or purchased for reasons unrelated to compliance with a specific renewable energy standard, and therefore requests that the Commission adopt an expired RECs definition flexible enough to account for potential REC benefits aside from renewable energy standard application.¹⁴⁷

¹⁴⁶ Utility Associations NOPR Comments at 21-22.

¹⁴⁷ Dominion NOPR Comments at 4.

85. Utility Associations are also concerned about the flexibility of the NOPR's proposed REC accounting treatment as applied to REC valuation methodologies. Utility Associations worry that the NOPR's proposal to account for RECs as inventory and the issuance of RECs from inventory on a vintage basis using a monthly weighted average of historical cost determination risks mismatch with the variety of REC markets and treatment.¹⁴⁸ Therefore, Utility Associations advocate for the Commission to allow for more flexibility in valuation method to align the Commission's accounting requirements with compliance requirements, business practices, and retail ratemaking treatments.

¹⁴⁸ Utility Associations NOPR Comments at 21.

86. Lastly, noting the diversity in current accounting practices and ratemaking treatment for RECs and other similar instruments across the utility industry, Utility Associations recommend prospective adoption of any final rule or accounting guidance related to RECs in order to allow for an adequate transition period for utilities.¹⁴⁹ Such prospective adoption would, according to Utility Associations, ensure utilities' existing accounting and reporting treatment continues to align with their current ratemaking treatment, while also providing utilities time to transition operational and accounting practices for future impacts on ratemaking and avoiding unnecessary additional cost and complexity.

¹⁴⁹ Id. at 20.

3. Commission Determination

87. We adopt the NOPR's proposal to codify accounting and reporting treatment for RECs, with a few revisions, discussed below.

88. Despite several commenters' requests,¹⁵⁰ we decline to host a technical conference on REC treatment implementation. We note that the majority of REC comments received on the NOPR do not conflict with the NOPR's proposed REC accounting treatment but rather relate to practicalities of rule implementation and matters outside the area of accounting and reporting. This rule addresses those comments that require deviation from the NOPR's proposals, specifically by broadening relevant instructions in the USofA and creating accounts to accommodate all types of environmental credits. Any accounting and reporting questions that public utilities may have after the issuance of this final rule can be directed to the Commission's Chief Accountant seeking informal or formal accounting guidance in a separate docket.

¹⁵⁰ See Dominion NOPR Comments at 4-5; PG&E and SDG&E NOPR Comments at 1, 2, 5; Utility Associations NOPR Comments at 18.

89. As noted above, we make a few amendments to the NOPR's proposed accounting treatment for RECs. First, in response to Utility Associations' and Carl Pechman's concerns about inclusion of other non-REC environmental items,¹⁵¹ we have decided to update the name of the proposed Renewable Energy Credit accounts to “Environmental Credits.” This retitling will clarify that these accounts are for all types of environmental credits, including ZECs and other allowances, and not just those classified as RECs. These accounts will provide for the recording of any type of environmental credit and allow companies to maintain granularity as needed (e.g., by designating subaccounts or other codes for different types of environmental credits unique to their operations).

¹⁵¹ Carl Pechman NOPR Comments at 1, 4; Utility Associations NOPR Comments at 19-20.

90. However, we decline to make additional granular accounting mandatory, as Carl Pechman requests.¹⁵² Such additional granularity is not necessary. The USofA is a standard framework on which a utility's accounting system is to be based in order to support the Commission's statutory responsibilities. However, utilities are not precluded from tailoring their accounting systems to their own needs, which is a standard practice, by using subaccounts or other codes to track more granular detail for managerial or additional regulatory purposes. Therefore, we adopt the NOPR's proposed changes to General Instruction No. 21.

¹⁵² Carl Pechman NOPR Comments at 6-9.

91. Next, we are persuaded by Utility Associations' request to place the expense accounts for Environmental Credits in the Other Power Supply expenses sub-function rather than the Steam Generation subfunction.¹⁵³ We agree that, because environmental credits are not generally the product of steam generation, their expenses do not belong in the Steam Generation subfunction. We have accordingly renamed and renumbered these accounts to Account 555.2 (Bundled Environmental Credits) and Account 555.3 (Unbundled Environmental Credits).

¹⁵³ See Utility Associations NOPR Comments at 20-21.

92. The other concerns raised by commenters relate to implementation practicalities rather than the NOPR's proposed accounting treatment itself. We believe that this final rule provides sufficient clarification to address these concerns. However, if any concerns remain, they can be addressed through subsequent informal or formal accounting guidance issued by the Commission's Chief Accountant.

93. The first set of these implementation concerns relates to the potential for inconsistency between Commission accounting treatment and that employed by other regulatory bodies.¹⁵⁴ These concerns seem to derive primarily from the NOPR's proposal to treat RECs as inventory.

¹⁵⁴ See id. at 18-19; Carl Pechman NOPR Comments at 9; PG&E and SDG&E NOPR Comments at 1.

94. Our decision to treat environmental credits as inventory is consistent with the Commission's long-standing policy, first stated in Order No. 552, of treating emission allowances as inventory, which the Commission has since extended to other environmental credits. Moreover, the primary purpose of our accounting rules is to facilitate ratemaking processes, not necessarily to align with other regulators' accounting practices, which may be designed to serve different objectives. Environmental credits, like allowances, are government-created tradeable property rights designed to promote environmental objectives that store value and are often utilized in a period other than that in which they are acquired. In this sense, environmental credits operate for utilities as an inventoriable asset similar to the value of assets recorded in Account 151 (Fuel Stock (Major Only)), or Account 154 (Plant Materials and Operating Supplies). Generally, if another accounting authority's treatment conflicts with the accounting and financial reporting needed by the Commission to fulfill its statutory responsibilities, then the Commission's accounting and reporting regulations prevail.¹⁵⁵ Finally, while this rule directs utilities to treat environmental credits as inventory, we recognize that there may be situations in which utilities have different accounting or rate treatment as required by their state or other regulatory bodies. Utilities can record regulatory assets or liabilities to record any differences between accounting and ratemaking treatment, or maintain separate records to accommodate the accounting treatment required by the different regulatory bodies (though, as for any tariff-driven deviation from standard accounting and FERC Form instructions, utilities must disclose such alternative accounting in their FERC Form reports). We also clarify, in response to PG&E and SDG&E's request,¹⁵⁶ the accounting in this rulemaking is not intended to impact retail rates, as indicated above.

¹⁵⁵ See Order No. 552, FERC Stats. & Regs. ¶ 30,967 at 30,801 (“If GAAP conflicts with the accounting and financial reporting needed by the Commission to fulfill its statutory responsibilities, then GAAP must yield. GAAP cannot control when it would prevent the Commission from carrying out its duty to provide jurisdictional companies with the opportunity to earn a fair return on their investment and to protect ratepayers from excessive charges and discriminatory treatment.”).

¹⁵⁶ PG&E and SDG&E NOPR Comments at 2-5.

95. Next, we turn to commenters' various timing concerns. We are unpersuaded by Utility Associations' and PG&E and SDG&E's concerns about how to report bundled REC costs that are recovered from retail customers at the time of renewable electricity energy generation.¹⁵⁷ Existing regulatory accounts are readily available when costs incurred in one ratemaking period need to be recovered or expensed in another.¹⁵⁸ Changes to the NOPR's accounting proposal are therefore not needed to address these concerns.

¹⁵⁷ Id. at 5; Utility Associations NOPR Comments at 22-23.

¹⁵⁸ See, e.g., Account 182.3 (Other Regulatory Assets) and Account 254 (Other Regulatory Liabilities). These regulatory accounts are designated for amounts that are probable to be included in a different period for purposes of developing the rates.

96. As for Utility Associations' concerns about where to record expired RECs,¹⁵⁹ we agree that expired RECs should be recorded in new Account 411.12 (Losses from Disposition of Environmental Credits). This treatment is consistent with the new General Instruction No. 21 Allowances and Environmental Credits, Part I. Similarly, in response to Dominion's concerns about the non-statutory use of expired RECs,¹⁶⁰ we note that General Instruction No. 21, Part I, indicates that losses on speculative trading should be recorded in Account 426.5 (Other Deductions). As such, no further revision to the accounting treatment for environmental credits is warranted to address recording of expired RECs.

¹⁵⁹ See Utility Associations NOPR Comments at 21-22.

¹⁶⁰ Dominion NOPR Comments at 4

97. Regarding Utility Associations' inventory valuation concerns,¹⁶¹ we note that our preference for weighted average cost has been in place for Allowances since Order No. 552, which the Commission has consistently applied to environmental credits in the decades since. However, we emphasize again that if specific state law or tariff provisions require utilities to use a different inventory method, the economic reality of the transaction governs, with divergence from standard practice noted and explained in the FERC Form Nos. 1 and 3-Q disclosures.

¹⁶¹ Utility Associations NOPR Comments at 21.

98. Lastly, we clarify for Utility Associations that, as for all final rules, this final rule will apply only prospectively and will allow utilities an adequate transition period, as discussed further below.¹⁶²

¹⁶² See id. at 20.

D. Creation of Computer Hardware, Software, and Communication Equipment Accounts

1. NOPR

99. The Commission proposed new accounts in each function and subfunction for computer hardware, software, and communication equipment.¹⁶³ The USofA was updated in 2005 to include accounts for recording computer hardware, software, and communication equipment owned by regional transmission organizations (RTO), but did not create comparable accounts for non-RTO public utilities and licensees to report these types of assets.¹⁶⁴ Consequently, non-RTO public utilities do not record computer hardware, software, and communication equipment uniformly, with many utilities recording these assets in general accounts (e.g., Account 303 (Miscellaneous Intangible Plant) and Account 391 (Office Furniture and Equipment)). To eliminate ambiguity and ensure greater consistency and transparency in accounting and reporting, the Commission proposed including computer hardware, software, and communication equipment accounts in each different functional area, including the general function.

¹⁶³ NOPR, 180 FERC ¶ 61,050 at P 58.

¹⁶⁴ Accounting & Financial Reporting for Public Utilities Including RTOs, Order No. 668, 70 FR 77627 (Dec. 30, 2005), FERC Stats. & Regs ¶ 31,199 (2005) (cross-referenced at 113 FERC ¶ 61,276), rehearing denied, Order No. 668-A, 71 FR 28513 (May 16, 2006), 115 FERC ¶ 61,080 (2006).

100. The Commission proposed to add three plant accounts and three maintenance accounts to all functions and subfunctions that currently lack them, including the new Renewable Generation subfunctions and the new Energy Storage function.¹⁶⁵ These accounts are: Accounts 315.1, 324.1, 334.1, 338.9, 338.30, 339.9, 345.1, 351.1, 363.1, 387.8, and 397.1 (Computer Hardware); Accounts 315.2, 324.2, 334.2, 338.10, 338.31, 339.10, 345.2, 351.2, 363.2, 387.9, and 397.2 (Computer Software); Accounts 315.3, 324.3, 334.3, 338.11, 338.32, 339.11, 345.3, 351.3, 363.3, 387.10, and 397.3 (Communication Equipment); Accounts 513.1, 531.1, 544.1, 553.1, 558.13, 558.33, 559.12, 578.7, 592.2, and 935.1 (Maintenance of Computer Hardware (Major only)); Accounts 513.2, 531.2, 544.2, 553.2, 558.14, 558.34, 559.13, 578.8, 592.3, 935.2 (Maintenance of Computer Software (Major only)); and Accounts 513.3, 531.3, 544.3, 553.3, 558.15, 558.35, 559.14, 578.9, 592.4, 935.3 (Maintenance of Communication Equipment (Major only)). The Commission added (Major only) to the account names for existing Transmission Expenses Maintenance Accounts 569.1, 569.2, 569.3, consistent with the proposed accounts. Because the RTO function only exists for RTOs and independent system operators, the Commission did not propose this designation on its accounts (i.e., Accounts 576.2, 576.3, and 576.4). These accounts have the same descriptions, instructions, and items as the existing RTO and Transmission function accounts of the same title.

¹⁶⁵ NOPR, 180 FERC ¶ 61,050 at P 59.

101. The Commission also proposed adding a new Electric Plant Instruction No. 17, Integrated computer hardware, software, and communication equipment.¹⁶⁶ The instruction explained that where computer hardware, software, and communication equipment is integrated as part of a larger retirement unit, it shall be recorded in the property account of the retirement unit purchased. It further clarified that, if this computer hardware, software, or communication equipment is not integrated, Plant Instruction No. 10 should be followed.

¹⁶⁶ Id. P 60.

102. Lastly, the Commission sought comment on whether the Commission should also create computer hardware, software, and communication accounts for natural gas pipelines, oil pipelines, and centralized service companies.¹⁶⁷

¹⁶⁷ Id. P 61.

2. Comments

103. Dominion, Clean Energy Associations, and Utility Associations commented on the NOPR's proposal to create new accounts within existing functions for computer hardware, software, and communication equipment. Dominion and Utility Associations appear to conditionally support the NOPR's proposals, with some requested revisions, while Clean Energy Associations oppose them.¹⁶⁸

¹⁶⁸ See Clean Energy Associations NOPR Comments at 14-15; Dominion NOPR Comments at 3; Utility Associations NOPR Comments at 14.

104. Clean Energy Associations question whether the proposed accounts are warranted, alleging that they will add administrative burden with few expected benefits.¹⁶⁹ Clean Energy Associations suggest that these costs could better be recorded to Other Accessory Electric Equipment. In the alternative, Clean Energy Associations suggest that the Commission should confirm through accounting guidance that the scheduled retirements approach that most utilities use for non-structures and improvements related to General Plant may be used for computer hardware, software, and communication equipment Production accounts.

¹⁶⁹ Clean Energy Associations NOPR Comments at 14-15.

105. Dominion, in contrast, supports the proposed changes regarding computer hardware and communication equipment, but raises three concerns regarding software accounting treatment.¹⁷⁰ First, Dominion believes that software should remain in Account 303 despite the potential for some inconsistency in accounting and reporting of computer software between functions. Second, because software is an intangible asset and does not have a depreciable service life similar to production plant, Dominion argues that it is more appropriate to recognize the amortization of software in Account 404 (Limited Term Plant Amortization) than Account 403 (Depreciation Expense). Third, Dominion asserts that the NOPR's proposed accounting guidance conflicts with recent guidance issued by the Commission's Chief Accountant regarding cloud computing, and Dominion states that it agrees with the guidance in that order.¹⁷¹ Last, Dominion argues that one function having different instructions on how to handle software does not warrant a change to all other functions and subfunctions.¹⁷² If software is to be recorded to different functions, Dominion believes that the Commission should issue guidance on how to account for software that supports more than one function—specifically, whether to use the General function or whether allocations to the functions are required.

¹⁷⁰ Dominion NOPR Comments at 3-4.

¹⁷¹ Id. at 4 (citing Guidance on Accounting for Implementation Costs Incurred in a Cloud Computing Arrangement that is a Service Contract, Docket No. AI20-1-000 (Dec. 20, 2019)).

¹⁷² Dominion NOPR Comments at 4.

106. Utility Associations also support creation of these new plant accounts, and recommend that balance amounts for computer hardware, software, and communication equipment that can be readily identified as dedicated to a particular function be transferred to the new accounts.¹⁷³ However, Utility Associations note that these assets may by nature share functionality, and even if not, it may be difficult to determine that equipment supports a sole functional area. Where computer hardware, software, or communication equipment is not clearly dedicated to a sole function, Utility Associations suggest that it should be recorded in General Plant.

¹⁷³ Utility Associations NOPR Comments at 14.

107. In addition, Utility Associations make a number of comments on specific proposed accounts. First, they suggest that the Commission remove item 1 “Personal Computers” entirely or rename it “Computers and Similar Items” to avoid implying that all personal computers must be tracked functionally.¹⁷⁴ Utility Associations explain that personal computers are generally not tracked functionally due to their short lives, low cost, and frequent transfer among personnel supporting different functional operations. Eliminating or broadening the item would mitigate the large, disproportionate burden that functional tracking of personal computers would require. Next, Utility Associations recommend allowing utilities to use Accounts 356, 358, 365, and 367 to record fiber optic cable used for transmission and distribution purposes. Utility Associations explain that fiber optic cable provides protective capabilities (shield and grounding, vibration and cable failure detection) and, when used for transmission and distribution, has a longer life than other communication devices more consistent with traditional overhead and underground conductors and devices. Therefore, Utility Associations argue that retaining the ability to continue to record fiber optic cable to plant Accounts 356, 358, 365 and 367 better aligns depreciation to its appropriate life span. Last, Utility Associations recommend that the Commission's Chief Accountant amend Accounting Release No. 15, Vintage Year Accounting for General Plant Accounts (AR-15), to allow public utilities currently applying the principles of AR-15 to vintaged General Plant accounts for computer hardware and communication equipment to continue that practice for assets that will now be accounted for in the new functional accounts. Utility Associations explain that this amendment will allow utilities to continue to record “auto-retirements” of assets that are fully amortized and eliminate the need to track small individual items of property.

¹⁷⁴ Id. at 14-17.

108. Utility Associations and Dominion also responded to the NOPR's request for comment on the need to create computer hardware, software, and communication equipment accounts in the USofA for centralized service companies. Utility Associations recommend adding computer hardware, software, and communication accounts to the USofA and FERC Form No. 60 for centralized service companies to better align their reporting with associated operating companies.¹⁷⁵ Dominion also requests that if software is to be recorded to the different functions, the Commission should issue guidance on how centralized service companies should account for software that supports more than one function—that is, whether the use of the General function would be appropriate or whether allocations to the functions are required.¹⁷⁶

¹⁷⁵ Id. at 18.

¹⁷⁶ Dominion NOPR Comments at 4.

109. LEPA responded to the NOPR's request for comment on the need to create computer hardware, software, and communication equipment accounts in the USofA for oil pipelines. LEPA opposes creation of such new accounts for oil pipelines, arguing that doing so would create needless burdens for oil pipelines that would far outweigh any perceived benefit.¹⁷⁷

¹⁷⁷ LEPA NOPR Comments at 2-4.

3. Commission Determination

110. We adopt the NOPR's proposal to create new accounts for computer hardware, software, and communication equipment within existing functions that do not already include them.

111. Several commenters questioned whether it is necessary or warranted to create these new accounts, in all or in part.¹⁷⁸ First, we disagree with Clean Energy Associations and Dominion that these new accounts are not warranted.¹⁷⁹ We recognize that creating these new accounts may create initial implementation burden for utilities, but we find that separate functional classification of such costs is necessary to improve uniformity, consistency, and transparency in accounting and reporting of such assets and related activities, and to better inform the ratemaking process. Additionally, to address the Utility Associations' comment regarding transfer of existing balance amounts for computer hardware, software, and communication equipment,¹⁸⁰ we clarify that if utilities cannot readily identify functional level of detailed balances of plant with associated accumulated depreciation, such balances may reside in the accounts initially used by the utilities.

¹⁷⁸ See Clean Energy Associations NOPR Comments at 14-15; Dominion NOPR Comments at 3-4; Utility Associations NOPR Comments at 14-17.

¹⁷⁹ See Clean Energy Associations NOPR Comments at 14-15; Dominion NOPR Comments at 4 (arguing that one function having different instructions on how to handle software does not warrant a change to all other functions and subfunctions).

¹⁸⁰ See Utility Associations NOPR Comments at 14.

112. We also disagree with Dominion's suggestion that software should remain in Account 303 as provided in the prior guidance on cloud computing issued by the Commission's Chief Accountant in Docket No. AI20-1-000.¹⁸¹ This guidance was consistent with then-available accounts within the USofA. In this prior accounting guidance, the Commission's Chief Accountant specifically stated that utilities should record implementation costs for cloud computing in Account 303 “provided such costs are not specifically provided for in other utility plant accounts.” ¹⁸² In the instant rulemaking, the Commission now provides functional plant accounts specifically designated for software, therefore superseding the prior accounting guidance in Docket No. AI20-1-000. As such, we also reject Dominion's request to provide for amortization of software in Account 404,¹⁸³ and instead direct utilities to record associated depreciation expense to Account 403, which includes depreciation for all classes of depreciable electric plant. We also clarify that where software supports more than one function, it can be recorded to Account 397.2 (General Plant Software).

¹⁸¹ See Dominion NOPR Comments at 3-4.

¹⁸² Guidance on Accounting for Implementation Costs Incurred in a Cloud Computing Arrangement that is a Service Contract, Docket No. AI20-1-000, at 3 (Dec. 20, 2019) (emphasis added).

¹⁸³ See Dominion NOPR Comments at 3-4.

113. To address Utility Associations' comments about computer hardware, software, and communication equipment that serves multiple functions,¹⁸⁴ we clarify that utilities may record such assets based on the assets' predominant use or function, or, alternatively, in the new General Plant accounts. Concerning Utility Associations' comment related to personal computers,¹⁸⁵ we clarify that account lists are illustrative and not prescriptive; personal computers should therefore only be recorded in the functional computer accounts if the specific computer's retirement unit serves that predominant function, such as one issued to a transmission or distribution line worker. In the case of personal computers that are mostly used by employees for general purposes, such computers can be recorded in the new General Plant account.

¹⁸⁴ See Utility Associations NOPR Comments at 14-17.

¹⁸⁵ See id.

114. To address Utility Associations' comment about fiber optic cables,¹⁸⁶ we note that the recording of fiber optic cables should follow the same classification criteria as discussed above, and be recorded based on their purpose and function. For example, fiber optic cables used as communication equipment should be recorded in the new functional accounts for communication equipment.

¹⁸⁶ See id. at 15-17.

115. To address Utility Associations'¹⁸⁷ and Clean Energy Associations'¹⁸⁸ comments related to the application of vintage accounting as discussed in AR-15, we note that vintage accounting is the same as scheduled retirements approach. The appropriateness of vintage depreciation is considered on a case-by-case basis within depreciation rate case proceedings.

¹⁸⁷ Id.

¹⁸⁸ Clean Energy Associations NOPR Comments at 15.

116. Finally, we note Utility Associations and Dominion's comments requesting new accounts or guidance for centralized service companies ¹⁸⁹ and LEPA's comments opposing creation of such accounts for oil pipelines.¹⁹⁰ We will consider whether future guidance or amendments to the USofAs for centralized service companies and natural gas companies are warranted.

¹⁸⁹ See Dominion NOPR Comments at 3; Utility Associations NOPR Comments at 18.

¹⁹⁰ LEPA NOPR Comments at 2-4.

E. Reporting

1. NOPR

117. To accommodate the proposed changes to the USofA explained above, the Commission proposed to amend FERC Form Nos. 1, 1-F, and 3-Q (electric) to include the new subfunctions for Wind, Solar, and Other Non-Hydro Renewable as well as a new Energy Storage function within the plant and operations and maintenance expense sections of the forms, including the schedules for depreciation.¹⁹¹ Each subfunction and function would include the accounts as described above. The currently existing functional accounts for energy storage would be removed (Accounts 348, 351, 363, 548.1, 562.1, 570.1, and 584.1) or replaced (Accounts 553.1 and 592.2).

¹⁹¹ NOPR, 180 FERC ¶ 61,050 at P 62, App. B: FERC Form Nos. 1/1-F at 204-207, 219, 321-322, FERC Form No. 1 at 227, 336, 352, 354, 401a, FERC Form No. 1-F at 21, 24, FERC Form No. 3-Q (electric) at 208, 324a, 324b.

118. The proposed reporting changes to FERC Form Nos. 1, 1-F, and 3-Q (electric) would result in changes to centralized service company reporting in FERC Form No. 60, Schedule XVI—Analysis of Charges for Service—Associate and Non-Associate Companies, because the FERC Form No. 60 summarizes the functional and sub-functional O&M accounts detailed in FERC Form Nos. 1, 1-F, and 3-Q (electric).¹⁹² As such, these proposed changes to FERC Form No. 60 consist of new rows for the summarized totals of the proposed new Energy Storage function and Generation sub-functions O&M accounts.

¹⁹² Id. at P 63, App. B: FERC Form No. 60 at 304-305a.

119. The Commission also proposed to amend FERC Form Nos. 1, 1-F, and 3-Q (electric) to include RECs as part of the instructions and titles wherever allowances are discussed.¹⁹³ Further, it proposed to consolidate inputs for both sulfur dioxide and nitrogen oxides (NOX) in the existing Allowances schedule,¹⁹⁴ to include inputs for both bundled and unbundled RECs, and to amend the related title for Account 509 to read as Account 509.1.¹⁹⁵ The Commission proposed to add separate gain and loss accounts to the statement of income for RECs.¹⁹⁶

¹⁹³ Id. at P 64, App. B: FERC Form Nos. 1/1-F at 320, FERC Form No. 1 at 2, 110-111, 120-121, 228a, 229a, FERC Form No. 1-F at 4, 10-11, 15-16.

¹⁹⁴ Id. at App. B: FERC Form No. 1 at 228a-229a amended, pages 228b-229b deleted.

¹⁹⁵ Id. at App. B: FERC Form Nos. 1/1-F at 320, FERC Form No. 1-F at 15.

¹⁹⁶ Id. at App. B: FERC Form Nos. 1/3-Q (electric) at 114, FERC Form No. 1-F at 6.

120. The Commission further proposed to amend FERC Form Nos. 1, 1-F, and 3-Q (electric) to include new plant and maintenance expense accounts for computer hardware, software, and communication equipment within all functions and subfunctions (including the general function).¹⁹⁷ In the Depreciation and Amortization of Electric Plant schedule section B (Basis for Amortization Charges), the Commission proposed to eliminate the first two sentences and the word software from the third sentence as these clauses would no longer be applicable to software.¹⁹⁸

¹⁹⁷ Id. at P 65, App. B: FERC Form Nos. 1/1-F at 204-207, 320-323, FERC Form No. 3-Q (electric) at 325.

¹⁹⁸ Id. at App. B: FERC Form No. 1 at 336.

121. Finally, the Commission proposed to consolidate the several statistical pages for different classes of large production generators into one statistical page to also include hydro and non-hydro renewables.¹⁹⁹ The Commission also proposed to amend the energy storage statistical pages to remove references in the instructions and columns related to cost functionalization.²⁰⁰

¹⁹⁹ Id. at P 62, App. B: FERC Form No. 1 at 402-03 amended, pages 406-07 deleted.

²⁰⁰ Id. at App. B: FERC Form No. 1 at 414-20.

2. Comments

122. Clean Energy Associations suggest that the NOPR's proposed changes to the USofA and FERC Form No. 1 have the potential to increase the burden on public utilities that are subject to the USofA requirements, but clarify that if public utilities that are subject to the USofA are supportive of the NOPR's proposed reporting changes, it does not object to the additional requirements.²⁰¹

²⁰¹ Clean Energy Associations NOPR Comments at 3.

123. Utility Associations note that the NOPR proposed to combine all large generating assets for FERC Form No. 1 reporting purposes into one statistical page.²⁰² Utility Associations recommend that the Commission keep existing statistical plant pages 402-03 and 406-07 unchanged and instead add new pages for reporting large solar, wind, and other non-hydro renewables larger than 10 MW. Utility Associations argue that, because the vast majority of the reporting requirements on the existing pages are not applicable to solar, wind, and other non-hydro renewable generating assets, consolidating the information for generating plant statistics on one page adds undue complexity that will complicate preparation and review. In addition, echoing their comments on the NOPR's energy storage provisions (that the functional MWh reporting on pages 414-16 of FERC Form No. 1 contradict the NOPR's goal in establishing a new storage function), Utility Associations recommend that the Commission modify FERC Form No. 1 pages 414-16 to eliminate columns d, e, and f, which show functional MWhs delivered.

²⁰² Utility Associations NOPR Comments at 23-24.

124. Utility Associations also note a number of ministerial errors in the NOPR related to reporting.²⁰³ Those errors include: (1) proposed line 35.46 on the FERC Form No. 1 and 1-F page should identify 339.13 instead of 338.13; (2) proposed line 10.5 on the FERC Form No. 3-Q page 324a should be re-labeled to remove the word “Renewables” from “Wind Renewables Generation—Maintenance (558.25-558.35)” to ensure consistent naming convention with proposed lines 10.1, 10.2 and 10.4; (3) the summation referenced in proposed line 21.4 on FERC Form No. 3-Q page 325 should be changed from “Enter Total of lines 21 thru 21.4” to “Enter Total of lines 21 thru 21.3”; and (4) on pages 320-23 of FERC Form No. 1 and 1-F: (a) proposed line 79.15 should be modified to “Maintenance of Other Accessory Electrical Equipment” instead of “Other Accessory Electrical Equipment”; (b) proposed line 79.37 should list Account 558.33 instead of Account 558.31; (c) proposed line 79.38 should list Account 558.34 instead of Account 558.32; (d) proposed line 79.39 should list Account 558.35 instead of Account 558.33; and (e) proposed line 79.40 should list Account 558.36 instead of Account 558.34.

²⁰³ Id., at app. C.

3. Commission Determination

125. We adopt the NOPR's proposed changes to the FERC forms, with minor revisions, discussed below. First, in keeping with other revisions made in this final rule, we update references in FERC Form Nos. 1, 1-F, and 3-Q (electric) to the proposed Other Non-Hydro Renewable subfunction to refer instead to the Other Renewable subfunction. We also update references to RECs in FERC Form Nos. 1, 1-F, and 3-Q (electric) to instead reference environmental credits, as appropriate.

126. In response to Clean Energy Associations' concerns about potential increased burden resulting from the NOPR's proposed reporting requirements,²⁰⁴ while sensitive to the administrative burdens our rules create, we find that the clarity, transparency, consistency, and uniformity benefits of this final rule, including its reporting requirements, outweigh the potential burdens of reporting.

²⁰⁴ We note that Clean Energy Associations qualified their objection to the NOPR's proposed reporting requirements. See Clean Energy Associations NOPR Comments at 3 (“The Clean Energy Associations also note that the extensive changes to the USofA and FERC Form No. 1 proposed in the USofA NOPR actually have the potential to increase the burden on public utilities that are subject to the USofA requirements; if public utilities that are subject to the USofA are supportive of the significant reporting changes proposed in the USofA NOPR that they would have to bear, Clean Energy Associations do not object to these additional requirements.”). We also note that Utility Associations, whose members are subject to the USofA, appear to support the reporting proposals. See Utility Associations NOPR Comments at 1, 24 (explaining that Utility Associations support the NOPR's provisions “except as noted in [their] specific comments[,]” and not otherwise objecting to the NOPR's reporting proposals).

127. We agree with Utility Associations' request to maintain statistical plant pages 402-03 and 406-07 and instead add new pages for reporting renewable generating assets larger than 10 MW.²⁰⁵ Accordingly, we add a new renewable generating plant statistical page 404 to FERC Form No. 1. The NOPR's proposal to consolidate these forms was intended to simplify the reporting burden associated with this final rule. After considering Utility Associations' comment, we find that refraining from consolidation better reduces administrative burdens.

²⁰⁵ Utility Associations NOPR Comments at 23-24.

128. Lastly, we accept all of Utility Associations' proposed ministerial revisions ²⁰⁶ in order to correctly reflect the Commission's intent in proposing the NOPR and effectuate the purpose of this final rule.

²⁰⁶ Id., at app. C.

F. Other Issues

1. Account Numbering

a. Comments

129. Utility Associations and Dominion take issue with the number of digits that the NOPR proposed to include for new accounts. Specifically, both commenters recommend using four-digit accounts rather than the five-digit accounts (for example, using 338.1 rather than 338.10) proposed in the NOPR to avoid the cost and time that modifying accounting software to allow for five-digit accounts will require.²⁰⁷

²⁰⁷ Dominion NOPR Comments at 2; Utility Associations NOPR Comments at 6.

b. Commission Determination

130. While we recognize Utility Associations' and Dominion's concerns that the proposed five-digit numbering increases implementation burdens to update accounting software,²⁰⁸ we nevertheless find five-digit numbering to be the least burdensome way to implement needed changes because creating these new accounts without using five-digit numbering would require complete overhaul of the USofA's numbering system. In addition, we find that the need for and benefit from these new accounts, as discussed above, justifies the burden caused by the proposed numbering.

²⁰⁸ See Dominion NOPR Comments at 2; Utility Associations NOPR Comments at 6.

2. Issues Beyond the Scope of This Rulemaking

a. Comments

131. Some commenters raise issues that were not addressed in the NOPR. Clean Energy Associations urge the Commission to convene a technical conference, issue guidance, or act on the NOI in Docket No. RM22-2-000 on reactive power compensation issues, and otherwise to confirm that the cost of equipment that supports the production and provision of reactive power service should be used to support reactive power compensation that is based on the current American Electric Power methodology.²⁰⁹ RESA requests that the Commission make additional modifications to the USofA in this or a subsequent rulemaking to include accounts associated with competitive market function activities (i.e., the provision of default supply service).²¹⁰ Carl Pechman suggests that the Commission adopt an on-going process to evaluate accounting needs required to support decarbonization of the electric system.²¹¹ In addition, Carl Pechman suggests evaluating whether existing accounting protocols for generation assets provide sufficient fidelity to provide adequate information on capital cost of pollution control and decarbonization investments (such as carbon capture and storage).

²⁰⁹ Clean Energy Associations NOPR Comments at 5.

²¹⁰ RESA NOPR Comments at 5-11.

²¹¹ Carl Pechman NOPR Comments at 2.

b. Commission Determination

132. The NOPR did not propose reforms related to these issues raised by commenters. Therefore, these issues are outside the scope of this proceeding and will not be addressed here.

G. Proposed Compliance Procedures

1. Comments

133. Several commenters request that the rule's accounting and reporting requirements apply prospectively to avoid the need to restate or refile financial statements from prior years.²¹² Specifically, Dominion suggests a two-year implementation window between rulemaking issuance and implementation date given the significant time and expense that implementing the rulemaking's changes will require.²¹³ Utility Associations also request guidance on how utilities should transfer historical balances to the new accounts when implementing the Commission's order, and propose providing for the transfer of the historical balances to the new accounts in the current year without restating balances for prior years and for disclosure in footnotes in reports filed with the Commission, including FERC Form No. 1, describing the amounts transferred.²¹⁴

²¹² Id. at 6; Dominion NOPR Comments at 2-3; PG&E and SDG&E NOPR Comments at 1, 5.

²¹³ Dominion NOPR Comments at 5.

²¹⁴ Utility Associations NOPR Comments at 6 (stating that its proposed treatments would be consistent with the treatment that the Commission previously approved in Order No. 784).

134. Several commenters also request that the Commission allow utilities to continue to apply the previously approved depreciation rates applicable to the prior accounts in the new accounts until depreciation rates are approved for the new accounts.²¹⁵ Utility Associations explain that this would enable the continued depreciation of assets using approved depreciation rates until a utility can propose new rates for review and approval.

²¹⁵ Dominion NOPR Comments at 2-3; Utility Associations NOPR Comments at 7.

135. Last, Utility Associations suggest that the Commission should allow jurisdictional utilities with formula rates to update their formula rates to comply with the Commission's order updating the USofA through a single-issue filing either under FPA section 205 or a compliance filing.²¹⁶ Utility Associations note that permitting single-issue filings would allow affected utilities to update their formula rates solely for the purpose of complying with this final rule, thereby providing the necessary clarity that the remainder of the filed rate would not be subject to litigation.

²¹⁶ Utility Associations NOPR Comments at 4-5, 24.

2. Commission Determination

136. We require regulated entities to implement the requirements of this final rule by January 1, 2025. These changes are therefore prospective, as requested.²¹⁷ We will not require retroactive reporting in the FERC Form Nos. 1 and 3-Q of these accounting changes, nor restatement of prior years in the initial Forms under implementation of the new accounts. Therefore, public utilities must use the accounting treatment codified in this rule in all applicable filings starting in the first quarter of 2025. We have chosen the January 1, 2025, implementation date despite Dominion's request for two years to implement the changes ²¹⁸ in order to timely respond to the need for this final rule's changes while providing a reasonable implementation period that coincides with a new accounting and reporting cycle. This extended implementation schedule will also ensure that smaller entities subject to our accounting and reporting requirements have sufficient time to update their accounting and reporting software. In response to Utility Associations' request for guidance on how utilities should transfer historical balances to the new accounts,²¹⁹ we agree that the historical balances should be transferred to the new accounts in the current year without restating balances for prior years, and that the amounts transferred should be disclosed in the utilities' FERC Forms filed with the Commission.

²¹⁷ Id. at 6; Dominion NOPR Comments at 2-3; PG&E and SDG&E NOPR Comments at 1, 5.

²¹⁸ Dominion NOPR Comments at 5.

²¹⁹ Utility Associations NOPR Comments at 6 (stating that its proposed treatments would be consistent with the treatment that the Commission previously approved in Order No. 784).

137. We agree with commenters that existing depreciation rates should apply to the newly classified plant going forward, to be revisited in a timely manner in the utility's next relevant depreciation rate case.²²⁰ This includes, as noted above, vintage depreciation rates being applied to non-General Plant, and current amortization rates being treated as vintage depreciation with identical rates. We will consider on a case-by-case basis the appropriateness of this depreciation method going forward as with any depreciation rate case, and take into account all of the appropriate information relevant to retirement units in the account, including the accuracy of historic accounting and supplementary property records in contested depreciation rate cases.

²²⁰ See Dominion NOPR Comments at 2-3; Utility Associations NOPR Comments at 7.

138. We also agree with Utility Associations ²²¹ that utilities affected by this final rule may seek to update their rates on a single-issue basis given the limited scope of the requirements in this final rule.²²² We therefore will allow jurisdictional utilities with formula rates to seek to update their formula rates to comply with this rule through either a single-issue filing under FPA section 205 or as part of a utility's section 205 filing to update formula rates involving other matters. We note, however, that, as we do not issue this rule under FPA section 206, FPA section 206 compliance filings are neither a required nor appropriate response to this final rule; compliance rather requires appropriate accounting for items subject to the accounting treatment in rate filings. We also emphasize that, as for other accounting rulemakings, nothing in this rule should be construed as pre-granting authority for rate recovery in a rate proceeding.²²³

²²¹ See Utility Associations NOPR Comments at 4-5, 24 (citing Promoting Transmission Investment through Pricing Reform, Order No. 679, 71 FR 43294 July 31, (2006), 116 FERC ¶ 61,057, at PP 191-193, order on rehearing, Order No. 679-A, 72 FR 1152 (Jan. 10, 2007), 117 FERC ¶ 61,345 (2006), order on rehearing, 119 FERC ¶ 61,062 (2007)).

²²² See Indicated RTO Transmission Owners, 161 FERC ¶ 61,018, at PP 13-14 (2017); see also See Public Utility Transmission Rate Changes to Address Accumulated Deferred Income Taxes, Order No. 864, 84 FR 65281 (Nov. 7, 2019), 169 FERC ¶ 61,139, at PP 2, 18 (2019), order on rehearing, Order No. 864-A, 85 FR 27681 (May 11, 2020), 171 FERC ¶ 61,033 (2020).

²²³ See Accounting, Financial Reporting, & Rate Filing Requirements for Asset Retirement Obligations, Order No. 631, 68 FR 19610 (Apr. 21, 2003), 103 FERC ¶ 61,021, at P 64 (2003).

V. Information Collection Statement

139. The information collection requirements contained in this final rule are subject to review by the Office of Management and Budget (OMB) under section 3507(d) of the Paperwork Reduction Act of 1995.²²⁴ OMB's regulations require approval of certain information collection requirements imposed by agency rules.²²⁵ Upon approval of a collection of information, OMB will assign an OMB control number and expiration date. Respondents subject to the filing requirements of this rule will not be penalized for failing to respond to these collections of information unless the collections of information display a valid OMB control number.

²²⁴ 44 U.S.C. 3507(d).

²²⁵ 5 CFR 1320.11.

140. This final rule requires jurisdictional entities as detailed in 18 CFR part 101 (Uniform System of Accounts Prescribed for Public Utilities and Licensees Subject to the Provision of the Federal Power Act, General Instructions) to update, modify, and add accounts. The updates within the USofA are also required in the respective forms (FERC Form Nos. 1, 1-F, 3-Q (electric), and 60) that are filed with the Commission.

141. Interested persons may obtain information on the reporting requirements by contacting Ellen Brown, Office of the Executive Director, Federal Energy Regulatory Commission, 888 First Street NE, Washington, DC 20426 via email (DataClearance@ferc.gov) or telephone ((202) 502-8663).

142. Title: Annual Report of Major Electric Utilities, Licensees, and Others (FERC Form No. 1), Annual Report for Nonmajor Public Utilities and Licensees (FERC Form No. 1-F), Quarterly Financial Report of Electric Utilities, Licensees (FERC Form No. 3-Q (electric)), Annual Reports of Centralized Service Companies (FERC Form No. 60).

Action: Revision of collections of information in accordance with Docket No. RM21-11-000.

OMB Control Nos.: 1902-0021 (FERC Form No. 1) and 1902-0029 (FERC Form No. 1-F), 1902-0205 (FERC Form No. 3-Q (electric)), and 1902-0215 (FERC Form No. 60).

Respondents: Public utilities and licensees and centralized service companies who are not exempt or waived from filing per 18 CFR parts 141 and 369.

Frequency of Information Collection: Annually (FERC Form Nos. 1, 1-F, and 60); quarterly (FERC Form No. 3-Q).

Necessity of Information: The reforms in this final rule adjust the USofA to account for changes in the industry, particularly around renewable generation.

Internal Review: The Commission has reviewed the changes and has determined that such changes are necessary. These requirements conform to the Commission's need for efficient information collection, communication, and management within the energy industry. The Commission has specific, objective support for the burden estimates associated with the information collection requirements.

143. The Commission estimates a one-time burden due to the revisions in FERC Form Nos. 1, 1-F, 3-Q (electric), and 60 reflected in the final rule in Docket No. RM21-11-000, but estimates that the ongoing burden following the implementation will be consistent with the current collection estimates. The burden estimates below are included in two tables, the first table showing the one-time implementation burden required to update, add, and modify accounts related to the final rule and the second table showing the ongoing annual burden to record and report on each account in the FERC Form Nos. 1, 1-F, 3-Q (electric), and 60.

144. The one-time implementation burden includes updating, adding, and modifying accounts to be compliant with the final rule in Docket No. RM21-11-000. This includes updates to FERC Form Nos. 1, 1-F, 3-Q (electric), and 60 for the creation of new accounts and production subfunctions for wind, solar, and other renewable generating assets; establishment of a new functional class for energy storage accounts; codification of the accounting treatment of environmental credits; and creation of new accounts within existing functions for computer hardware, software, and communication equipment. The Reporting section IV.E of this document indicates which forms and pages will be affected by the categorized proposed changes.

145. The estimates below were calculated using previous final rules combined with the Commission's best estimate of the required effort to update, modify, or add accounts within the USofA. We estimate that, on average, it will take 20 minutes to create or transition an account to comply with the requirements listed in this final rule. FERC Form No. 1 requires 132 account changes, FERC Form No. 1-F requires 132 account changes, and FERC Form No. 60 requires 11 account changes. The changes to FERC Form No. 3-Q (electric) are reflected in the calculations for FERC Form No. 1 and 1-F because the quarterly reports are generally a subset of the annual filings required by FERC Form No. 1 and 1-F. The changes above are reflected in the one-time implementation burden estimate listed in Table 1 below.²²⁶

²²⁶ The burden numbers in the table are rounded to 1 decimal place, and the costs are rounded to the nearest dollar.

Table 1—RM21-11-000 Final Rule—One-Time Implementation Burden, in Year 1
Requirement | Number of respondents | Annual number of responses per respondent | Total number of responses | Average burden & cost per response ²²⁷ | Total annual burden hours & cost | Annual cost per respondent ($)
| (1) | (2) | (1) * (2) = (3) | (4) | (3) * (4) = (5) | (5) ÷ (1)
Form No. 1 | 217 | 1 | 217 | 44 hrs.; $4,004 | 9,548 hrs.; $868,868 | $4,004
Form No.1-F | 2 | 1 | 2 | 44 hrs.; $4,004 | 88 hrs.; $8,008 | 4,004
Form No. 3-Q electric ²²⁸ | 221 | 3 | 663 | 0 hrs.; $0 | 0 hrs.; $0 | 0
Form No. 60 | 42 | 1 | 42 | 3.7 hrs.; $336.70 | 155.4 hrs.; $14,141.40 | 336.70
Total for Implementation Burden |  |  | 924 |  | 9,791.4 hrs.; $891,017.40 |

146. The Commission estimates that the ongoing burden in years 2 and beyond will be consistent with the current burden estimates related to FERC Form Nos. 1, 1-F, 3-Q (electric), and 60 because, although the accounts are changing, the data historically has been recorded and documented under different account names: therefore, after the initial implementation of the changes, respondents will likely revert to the current burden estimates. The estimated ongoing burden is shown in Table 2 below.

²²⁷ The average burden and cost per response is calculated using the hourly wage figures for FERC staff. The Commission estimates that the costs for the Commission are comparable to those in industry. Commission staff average salary plus benefits totals $188,922 or $91 per hour.

²²⁸ The Commission assumes that the one-time burden for the FERC Form No. 3-Q is incorporated into the calculation of FERC Form No. 1 because quarterly filings are typically a subset of the annual filings.

Table 2—RM21-11-000 Final Rule—Annual Ongoing Burden (Current), Starting in Year 2
Requirement | Number of respondents | Annual number of responses per respondent | Total number of responses | Average burden & cost per response ²²⁹ | Total annual burden hours & cost | Annual cost per respondent ($)
| (1) | (2) | (1) * (2) = (3) | (4) | (3) * (4) = (5) | (5) ÷ (1)
Form No. 1 | 217 | 1 | 217 | 1,182 hrs.; $107,562 | 256,494 hrs.; $23,340,954 | $107,562
Form No.1-F | 2 | 1 | 2 | 136 hrs.; $12,376 | 272 hrs.; $24,752 | 12,376
Form No. 3-Q electric | 221 | 3 | 663 | 168 hrs.; $15,288 | 111,384 hrs.; $10,135,944 | 45,864
Form No. 60 | 42 | 1 | 42 | 78 hrs.; $7,098 | 3,276 hrs.; $298,116 | 7,098
Total Ongoing Burden (current) |  |  | 924 |  | 371,426 hrs.; $33,799,766 |

147. In this final rule, besides the noted revisions, the Commission used the numbers provided in the NOPR.

²²⁹ The average burden and cost per response is calculated using the hourly wage figures for FERC staff. The Commission estimates that the costs for the Commission are comparable to those in industry. Commission staff average salary plus benefits totals $188,992 or $91 per hour.

VI. Environmental Analysis

148. The Commission is required to prepare an Environmental Assessment or an Environmental Impact Statement for any action that may have a significant adverse effect on the human environment.²³⁰ No environmental consideration is necessary for the promulgation of a rule that addresses information gathering, analysis, and dissemination,²³¹ or that addresses accounting.²³² This final rule addresses accounting. In addition, this final rule involves information gathering, analysis, and dissemination. Therefore, this final rule falls within categorical exemptions provided in the Commission's regulations. Consequently, neither an environmental impact statement nor an environmental assessment is required.

²³⁰ Regulations Implementing the National Environmental Policy Act, Order No. 486, 52 FR 47897 (Dec. 17, 1987), FERC Stats. & Regs. Preambles 1986-1990 ¶ 30,783 (1987) (cross-referenced at 41 FERC ¶ 61,284).

²³¹ See 18 CFR 380.4(a)(5).

²³² See id. 380.4(a)(16).

VII. Regulatory Flexibility Act

149. The Regulatory Flexibility Act of 1980 (RFA) ²³³ generally requires a description and analysis of final rules that will have significant economic impact on a substantial number of small entities. The RFA mandates consideration of regulatory alternatives that accomplish the stated objectives of a proposed rule and minimize any significant economic impact on a substantial number of small entities.²³⁴ The Small Business Administration (SBA) sets the threshold for what constitutes a small business. Under SBA's size standards,²³⁵ electric generators definitions of “small” range from 250-1,150 employees based on the type of generation. For the purpose of our analysis, we use the 1150 employee threshold NAICS Code: 221115 Wind Electric Power Generation (this will cover all categories of electric generators) that is used for solar, wind, geothermal, biomass, and “other” generators because the proposed rules accounting changes are particularly relevant for these types of generation.

²³³ 5 U.S.C. 601-612.

²³⁴ Id. 603(c).

²³⁵ 13 CFR 121.201.

150. In our analysis, we utilized previous submissions of the FERC Form Nos. 1,²³⁶ 1-F,²³⁷ 3-Q (electric),²³⁸ and 60 ²³⁹ filers to create populations of companies to determine the number of small entities. The Commission found that, of this population, approximately 88% percent of companies filing FERC Form No. 1, 50% of companies filing FERC Form No. 1-F, and approximately 69% of companies filing FERC Form No. 60, qualify as “small” using the definition provided by SBA. The Commission believes that this rule will not have a significant economic impact on a substantial number of small entities, and therefore no regulatory flexibility analysis is required.

²³⁶ The total population of 2020 FERC Form No. 1 filers totaled 221. We used a statistical sample size of 67 companies that produces a 95% confidence level.

²³⁷ The total population of 2020 FERC Form No. 1-F filers totaled 2.

²³⁸ The FERC Form No. 3-Q are quarterly filings, which are typically a subset of the annual filings. The Commission assumes that the 3-Q filers are generally consistent with FERC Form No. 1 filers.

²³⁹ The total population of 2020 FERC Form No. 60 filers totaled 42. We used a statistical sample size of 29 companies that produces a 95% confidence level.

151. According to SBA guidance, the determination of significance of impact “should be seen as relative to the size of the business, the size of the competitor's business, and the impact the regulation has on larger competitors.” ²⁴⁰ We do not consider the estimated cost to be a significant economic impact. As a result, we certify that this final rule will not have a significant economic impact on a substantial number of small entities.

²⁴⁰ U.S. Small Business Administration, A Guide for Government Agencies How to Comply with the Regulatory Flexibility Act, at 18 (May 2012), https://www.sba.gov/sites/default/files/advocacy/rfaguide_0512_0.pdf.

VIII. Document Availability

152. In addition to publishing the full text of this document in the Federal Register, the Commission provides all interested persons an opportunity to view and/or print the contents of this document via the internet through the Commission's Home Page (http://www.ferc.gov).

153. From the Commission's Home Page on the internet, this information is available on eLibrary. The full text of this document is available on eLibrary in PDF and Microsoft Word format for viewing, printing, and/or downloading. To access this document in eLibrary, type the docket number excluding the last three digits of this document in the docket number field.

154. User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

IX. Effective Date and Congressional Notification

These regulations are effective January 1, 2025. The Commission has determined, with the concurrence of the Administrator of the Office of Information and Regulatory Affairs of OMB, that this rule is not a “major rule” as defined in section 351 of the Small Business Regulatory Enforcement Fairness Act of 1996.

List of Subjects in 18 CFR Part 101

Electric power, Electric utilities, Reporting and recordkeeping requirements, Uniform system of accounts.

By the Commission.
Issued: June 29, 2023
Kimberly D. Bose,
Secretary.

In consideration of the foregoing, the Commission amends Part 101, Chapter I, Title 18, Code of Federal Regulations, as follows:

PART 101—UNIFORM SYSTEM OF ACCOUNTS PRESCRIBED FOR PUBLIC UTILITIES AND LICENSEES SUBJECT TO THE PROVISIONS OF THE FEDERAL POWER ACT

1. The authority citation for part 101 continues to read as follows:

Authority: 16 U.S.C. 791a-825r, 2601-2645; 31 U.S.C. 9701; 42 U.S.C. 7101-7352, 7651-7651o.

2. Under “General Instructions”, revise Instruction 21 to read as follows:

General Instructions

* * * * *

21. Allowances and environmental credits.

A. Public utilities owning allowances and environmental credits for operational purposes, shall account for such allowances and environmental credits at historical cost in account 158.1, Allowance Inventory, account 158.2, Allowances Withheld, account 158.3, Bundled Environmental Credits Inventory, or account 158.4, Unbundled Environmental Credits Inventory, as appropriate.

B. Allowances and environmental credits acquired for speculative purposes shall be accounted for in account 124, Other Investments. When purchased allowances and environmental credits acquired for speculative purposes become eligible for use in different years, and the allocation of the purchase cost cannot be determined by fair value, the purchase cost allocated to allowances and environmental credits of each vintage shall be determined through use of a present-value based measurement. The interest rate used in the present-value measurement shall be the utility's incremental borrowing rate, in the month in which the allowances and environmental credits are acquired, for a loan with a term similar to the period that it will hold the allowances and environmental credits and in an amount equal to the purchase price.

C. The underlying records supporting operational allowances and environmental credits recorded in account 158.1, account 158.2, account 158.3, and account 158.4 shall be maintained in sufficient detail at historical costs and provide the number of allowances and environmental credits and the related cost by vintage year, including allowances and environmental credits acquired at zero cost.

D. Issuances from inventory included in account 158.1, account 158.2, account 158.3, and account 158.4 shall be accounted for on a vintage basis using a monthly weighted-average method of historical cost determination. The cost of eligible allowances and environmental credits not used in the current year, shall be transferred to the vintage for the immediately following year.

E. Account 158.1 shall be credited and account 509, Allowances, debited concurrent with the monthly remittance of the allowances to be charged to expense based on each month's emissions. Account 158.3 and account 158.4 shall be credited and account 555.2, Bundled Environmental Credits, and account 555.3, Unbundled Environmental Credits, debited, respectively, so that the cost of the environmental credits to be remitted for the year is charged to expense based on each month's usage. This may, in certain circumstances, require allocation of the cost between months on a fractional basis.

F. In any period in which actual emissions exceed the amount allowable based on eligible allowances owned, the utility shall estimate the cost to acquire the additional allowances needed and charge account 158.1 with the estimated cost and credit the proper liability account. In any period in which a utility records its estimated amount of required environmental credits, the utility shall debit account 158.3 or account 158.4 with the estimated cost and credit the proper liability account. When differences between the estimated and actual costs become known, the adjustments should be made through account 158.1, account 158.3, and account 158.4, as well as account 509, account 555.2, and account 555.3 within a single month, as appropriate.

G. When a prepayment is made for allowances or environmental credits, the payment is debited to account 165, Prepayments. This accounting is not intended to influence the outcome of any rate treatment.

H. Penalties assessed by any authoritative agencies shall be charged to account 426.3, Penalties.

I. Gains on dispositions of allowances and environmental credits, other than those held for speculative purposes, shall be accounted for as follows. First, if there is uncertainty as to the regulatory treatment, the gain shall be deferred in account 254, Other Regulatory Liabilities, pending resolution of the uncertainty. Second, if there is certainty as to the existence of a regulatory liability, the gain will be credited to account 254, with subsequent recognition in income when reductions in charges to customers occur or the liability is otherwise satisfied. Third, all other gains will be credited to account 411.8, Gains from Disposition of Allowances, or account 411.11, Gains from Disposition of Environmental Credits. Losses on disposition of allowances and environmental credits, other than those held for speculative purposes, shall be accounted for as follows. Losses that qualify as regulatory assets shall be charged directly to account 182.3, Other Regulatory Assets. All other losses shall be charged to account 411.9, Losses from Disposition of Allowances, or account 411.12, Losses from Disposition of Environmental Credits. (See Definition No. 31.) Gains or losses on disposition of allowances and environmental credits held for speculative purposes shall be recognized in account 421, Miscellaneous Nonoperating Income, or account 426.5, Other Deductions, as appropriate.

J. Revenues for environmental credits associated with the sale of energy shall be recorded in the appropriate operating revenue account.

* * * * *

3. Under “Electric Plant Instructions”, add Instruction 17 to read as follows:

Electric Plant Instructions

* * * * *

17. Integrated computer hardware, software, and communication equipment. Where computer hardware, software, and communication equipment is integrated as part of a larger retirement unit, it shall be recorded in the property account of the retirement unit purchased. This shall be done consistently with electric plant instruction 10.

4. In the list of accounts under “Under Balance Sheet Chart of Accounts”, under “Assets and other debits,” under section 3 “Current and Accrued Assets”, add accounts 158.3 and 158.4 to read as follows:

Balance Sheet Chart of Accounts

* * * * *

3. Current and Accrued Assets

* * * * *

158.3 Bundled environmental credits inventory.

158.4 Unbundled environmental credits inventory.

* * * * *

5. Under Balance Sheet Accounts:

i. Revise Accounts 108, 111, 158.1, and 158.2; and

ii. Add accounts 158.3 and 158.4.

The additions and revisions read as follows:

Balance Sheet Accounts

* * * * *

108 Accumulated provision for depreciation of electric utility plant (Major only).

A. This account shall be credited with the following:

(1) Amounts charged to account 403, Depreciation Expense, or to clearing accounts for current depreciation expense for electric plant in service.

(2) Amounts charged to account 403.1, Depreciation expense for asset retirement costs, for current depreciation expense related to asset retirement costs in electric plant in service in a separate subaccount.

(3) Amounts charged to account 421, Miscellaneous Nonoperating Income, for depreciation expense on property included in account 105, Electric Plant Held for Future Use. Include, also, the balance of accumulated provision for depreciation on property when transferred to account 105, Electric Plant Held for Future Use, from other property accounts. Normally account 108 will not be used for current depreciation provisions because, as provided herein, the service life during which depreciation is computed commences with the date property is includible in electric plant in service; however, if special circumstances indicate the propriety of current accruals for depreciation, such charges shall be made to account 421, Miscellaneous Nonoperating Income.

(4) Amounts charged to account 413, Expenses of Electric Plant Leased to Others, for electric plant included in account 104, Electric Plant Leased to Others.

(5) Amounts charged to account 416, Costs and Expenses of Merchandising, Jobbing, and Contract Work, or to clearing accounts for current depreciation expense.

(6) Amounts of depreciation applicable to electric properties acquired as operating units or systems. (See electric plant instruction 5.)

(7) Amounts charged to account 182, Extraordinary Property Losses, when authorized by the Commission.

(8) Amounts of depreciation applicable to electric plant donated to the utility.

(The utility shall maintain separate subaccounts for depreciation applicable to electric plant in service, electric plant leased to others and electric plant held for future use.)

B. At the time of retirement of depreciable electric utility plant, this account shall be charged with the book cost of the property retired and the cost of removal and shall be credited with the salvage value and any other amounts recovered, such as insurance. When retirement, costs of removal and salvage are entered originally in retirement work orders, the net total of such work orders may be included in a separate subaccount hereunder. Upon completion of the work order, the proper distribution to subdivisions of this account shall be made as provided in the following paragraph.

C. For general ledger and balance sheet purposes, this account shall be regarded and treated as a single composite provision for depreciation. For purposes of analysis, however, each utility shall maintain subsidiary records in which this account is segregated according to the following functional classification for electric plant:

(1) Steam production,

(2) Nuclear production,

(3) Hydraulic production,

(4) Solar production,

(5) Wind production,

(6) Other renewable production,

(7) Other production,

(8) Transmission,

(9) Distribution,

(10) Regional Transmission and Market Operation,

(11) Energy Storage Plant, and

(12) General.

These subsidiary records shall reflect the current credits and debits to this account in sufficient detail to show separately for each such functional classification:

(a) The amount of accrual for depreciation,

(b) The book cost of property retired,

(c) Cost of removal,

(d) Salvage, and

(e) Other items, including recoveries from insurance.

Separate subsidiary records shall be maintained for the amount of accrued cost of removal other than legal obligations for the retirement of plant recorded in account 108, Accumulated Provision for Depreciation of Electric Utility Plant (Major only).

D. When transfers of plant are made from one electric plant account to another, or from or to another utility department, or from or to nonutility property accounts, the accounting for the related accumulated provision for depreciation shall be as provided in electric plant instruction 12.

E. The utility is restricted in its use of the accumulated provision for depreciation to the purposes set forth above. It shall not transfer any portion of this account to retained earnings or make any other use thereof without authorization by the Commission.

* * * * *

111 Accumulated provision for amortization of electric utility plant (Major only).

A. This account shall be credited with the following:

(1) Amounts charged to account 404, Amortization of Limited-Term Electric Plant, for the current amortization of limited-term electric plant investments.

(2) Amounts charged to account 421, Miscellaneous Nonoperating Income, for amortization expense on property included in account 105, Electric Plant Held for Future Use. Include also the balance of accumulated provision for amortization on property when transferred to account 105, Electric Plant Held for Future Use, from other property accounts. See also paragraph A(2), account 108, Accumulated Provision for Depreciation of Electric Utility Plant.

(3) Amounts charged to account 405, Amortization of Other Electric Plant.

(4) Amounts charged to account 413, Expenses of Electric Plant Leased to Others, for the current amortization of limited-term or other investments subject to amortization included in account 104, Electric Plant Leased to Others.

(5) Amounts charged to account 425, Miscellaneous Amortization, for the amortization of intangible or other electric plant which does not have a definite or terminable life and is not subject to charges for depreciation expense, with Commission approval.

(The utility shall maintain subaccounts of this account for the amortization applicable to electric plant in service, electric plant leased to others and electric plant held for future use.)

B. When any property to which this account applies is sold, relinquished, or otherwise retired from service, this account shall be charged with the amount previously credited in respect to such property. The book cost of the property so retired less the amount chargeable to this account and less the net proceeds realized at retirement shall be included in account 421.1, Gain on Disposition of Property, or account 421.2, Loss on Disposition of Property, as appropriate.

C. For general ledger and balance sheet purposes, this account shall be regarded and treated as a single composite provision for amortization. For purposes of analysis, however, each utility shall maintain subsidiary records in which this account is segregated according to the following functional classification for electric plant: (1) Steam production; (2) nuclear production; (3) hydraulic production; (4) solar production; (5) wind production; (6) other renewable production; (7) other production; (8) transmission; (9) distribution; (10) regional transmission and market operation; (11) energy storage plant; and (12) general. These subsidiary records shall reflect the current credits and debits to this account in sufficient detail to show separately for each such functional classification (a) the amount of accrual for amortization, (b) the book cost of property retired, (c) cost of removal, (d) salvage, and (e) other items, including recoveries from insurance.

D. The utility is restricted in its use of the accumulated provision for amortization to the purposes set forth above. It shall not transfer any portion of this account to retained earnings or make any other use thereof without authorization by the Commission.

* * * * *

158.1 Allowance inventory.

A. This account shall include the cost of allowances owned by the utility and not withheld by any authoritative agency. See General Instruction No. 21 and account 158.2, Allowances Withheld.

B. This account shall be credited and account 509, Allowances, shall be debited concurrent with the monthly emissions.

C. Separate subdivisions of this account shall be maintained so as to separately account for those allowances usable in the current year and in each subsequent year. The underlying records of these subdivisions shall be maintained in sufficient detail so as to identify each allowance included; the origin of each allowance; and the historical cost.

(Note: For prepayments of allowances, see General Instruction No. 21.)

158.2 Allowances withheld.

A. This account shall include the cost of allowances owned by the utility but withheld by any authoritative agency. (See General Instruction No. 21.)

B. The inventory cost of the allowances released by any authoritative agency for use by the utility shall be transferred to account 158.1, Allowance Inventory.

C. The underlying records of this account shall be maintained in sufficient detail so as to identify each allowance included; the origin of each allowance; and the historical cost.

158.3 Bundled environmental credits inventory.

A. This account shall include the cost of environmental credits owned by the utility, bundled with energy. See General Instruction No. 21.

B. This account shall be credited and account 555.2, Bundled Environmental Credits, shall be debited concurrent with the monthly use of environmental credits.

C. Separate subdivisions of this account shall be maintained so as to separately account for those environmental credits usable in the current year and in each subsequent year. The underlying records of these subdivisions shall be maintained in sufficient detail so as to identify each environmental credit included; the origin of each environmental credit; and the historical cost.

(Note: For prepayments of environmental credits, see General Instruction No. 21.)

158.4 Unbundled environmental credits inventory.

A. This account shall include the cost of environmental credits owned by the utility, not considered bundled with energy. See General Instruction No. 21.

B. This account shall be credited and account 555.3, Unbundled Environmental Credits, shall be debited concurrent with the monthly use of environmental credits.

C. Separate subdivisions of this account shall be maintained so as to separately account for those environmental credits usable in the current year and in each subsequent year. The underlying records of these subdivisions shall be maintained in sufficient detail so as to identify each environmental credit included; the origin of each environmental credit; and the historical cost.

(Note: For prepayments of environmental credits, see General Instruction No. 21.)

* * * * *

6. In the list of accounts under “Electric Plant Chart of Accounts”:

i. Under section 2.a, add accounts 315.1, 315.2, and 315.3;

ii. Under section 2.b, add accounts 324.1, 324.2, and 324.3;

iii. Under section 2.c, add accounts 334.1, 334.2, and 334.3;

iv. Redesignate section 2.d, “other production”, consisting of accounts 340 through 348, as section 2.g;

v. Add a new section 2.d, “solar production”, section 2.e, “wind production”, and section 2.f, “other renewable production”;

vi. Under newly designated section 2.g, “other production”, add accounts 345.1, 345.2, and 345.3, and remove and reserve account 348;

vii. Under section 3 “Transmission Plant”, add accounts 351.1, 351.2, and 351.3;

viii. Under section 4 “Distribution Plant”, remove and reserve account 363 and add accounts 363.1, 363.2, and 363.3;

ix. Redesignate section 6, “General Plant”, consisting of accounts 389 through 399.1, as section 7;

x. Add a new section 6, “Energy Storage Plant”;

xi. Transfer account 387 under section 5 “Regional Transmission and Market Operation Plan,” to newly created section 6, “Energy Storage Plant”;

xii. Add accounts 387.1 through 387.12 to newly created section 6, “Energy Storage Plant”;

xiii. Under newly redesignated section 7, “General Plant”, remove and reserve account 397; and

xiv. Add Accounts 397.1, 397.2, and 397.3 to newly redesignated section 7, “General Plant”;

* * * * *

The revisions and additions read as follows:

Electric Plant Chart of Accounts

* * * * *

2. Production Plant

a. steam production

* * * * *

315.1 Computer hardware.

315.2 Computer software.

315.3 Communication equipment.

* * * * *

b. nuclear production

* * * * *

324.1 Computer hardware.

324.2 Computer software.

324.3 Communication equipment.

* * * * *

c. hydraulic production

* * * * *

334.1 Computer hardware.

334.2 Computer software.

334.3 Communication equipment.

* * * * *

d. solar production

338.1 Land and land rights.

338.2 Structures and improvements.

338.3 [Reserved].

338.4 Solar panels.

338.5 Collector system.

338.6 Generator step-up transformers (GSU).

338.7 Inverters.

338.8 Other accessory electrical equipment.

338.9 Computer hardware.

338.10 Computer software.

338.11 Communication equipment.

338.12 Miscellaneous power plant equipment.

338.13 Asset retirement costs for solar production.

e. wind production

338.20 Land and land rights.

338.21 Structures and improvements.

338.22 [Reserved].

338.23 Wind turbines.

338.24 Wind towers and fixtures.

338.25 [Reserved].

338.26 Collector system.

338.27 Generator step-up transformers (GSU).

338.28 Inverters.

338.29 Other accessory electrical equipment.

338.30 Computer hardware.

338.31 Computer software.

338.32 Communication equipment.

338.33 Miscellaneous power plant equipment.

338.34 Asset retirement costs for wind production.

f. other renewable production

339.1 Land and land rights.

339.2 Structures and improvements.

339.3 Fuel holders.

339.4 Boilers.

339.5 [Reserved].

339.6 Generators.

339.7 [Reserved].

339.8 Other accessory electrical equipment.

339.9 Computer hardware.

339.10 Computer software.

339.11 Communication equipment.

339.12 Miscellaneous power plant equipment.

339.13 Asset retirement costs for other renewable production.

g. other production

340 Land and land rights.

341 Structures and improvements.

342 Fuel holders, producers, and accessories.

343 Prime movers.

344 Generators.

345 Accessory electric equipment.

345.1 Computer hardware.

345.2 Computer software.

345.3 Communication equipment.

346 Miscellaneous power plant equipment.

347 Asset retirement costs for other production plant.

348 [Reserved].

3. Transmission Plant

* * * * *

351.1 Computer hardware.

351.2 Computer software.

351.3 Communication equipment.

* * * * *

4. Distribution Plant

* * * * *

363 [Reserved].

363.1 Computer hardware.

363.2 Computer software.

363.3 Communication equipment.

* * * * *

6. Energy Storage Plant

387 [Reserved].

387.1 Land and land rights.

387.2 Structures and improvements.

387.3 Energy storage equipment.

387.4 [Reserved].

387.5 Collector system.

387.6 Generator step-up transformers (GSU).

387.7 Inverters.

387.8 Computer hardware.

387.9 Computer software.

387.10 Communication equipment.

387.11 Miscellaneous energy storage equipment.

387.12 Asset retirement costs for energy storage.

7. General Plant

* * * * *

397 [Reserved].

397.1 Computer hardware.

397.2 Computer software.

397.3 Communication equipment.

* * * * *

7. In the section “Balance Sheet Accounts,” under “Electric Plant Accounts”:

i. Add Accounts 315.1, 315.2, 315.3, 324.1, 324.2, 324.3, 334.1, 334.2, 334.3, 338.1 through 338.13, 338.20 through 338.34, 339.1 through 339.13, and 345.1 through 345.3;

ii. Accounts 348 and 351 are removed and reserved;

iii. Accounts 351.1, 351.2, and 351.3 are added;

iv. Account 363 is removed and reserved;

v. Accounts 363.1, 363.2, 363.3, 387, and 387.1 through 387.12 are added;

vi. Account 397 is removed and reserved; and

vii. Accounts 397.1, 397.2, and 397.3 are added;

The revisions and additions read as follows:

Electric Plant Accounts

* * * * *

315.1 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

315.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

315.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

324.1 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

324.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

324.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

334.1 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

334.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

334.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

338.1 Land and land rights.

This account shall include the cost of land and land rights used in connection with solar power generation. (See electric plant instruction 7.)

338.2 Structures and improvements.

This account shall include the cost in place of structures and improvements used in connection with solar power generation. (See electric plant instruction 8.)

338.3 [Reserved].

338.4 Solar panels.

This account shall include the installed cost of the racks, solar panels, solar tracking system, and other equipment to be used primarily for generating Direct Current (DC) electricity.

338.5 Collector system.

This account shall include all cost of cabling, junction boxes, connection cabinets, and all facilities and devices (such as capacitors and reactors) that are used to transport and consolidate the power fed from individual solar panels up to, but not including, the substation prior to interconnection to the grid. This account shall exclude the cost of transformers and other equipment used for the express purpose of interconnecting to transmission or distribution lines.

Items

1. Anchors, head arm, and other guys, including guy guards, guy clamps, strain insulators, pole plates, etc.

2. Armored conductors, buried, submarine, including insulators, insulating materials, splices in terminal chamber, potheads, etc.

3. Brackets.

4. Circuit breakers.

5. Conductors, including insulated and bare wires and cables.

6. Conduit, concrete, brick and tile, including iron pipe, fiber pipe, Murray duct, and standpipe on pole or tower.

7. Crossarms and braces.

8. Excavation and backfill, including shoring, bracing, bridging, and disposal of excess excavated material.

9. Extension arms.

10. Fireproofing, in connection with any items listed herein.

11. Foundations and settings specially constructed for and not expected to outlast the apparatus for which constructed.

12. Ground wires, clamps, etc.

13. Guards.

14. Hollow-core oil-filled cable, including straight or stop joints, pressure tanks, auxiliary air tanks, feeding tanks, terminals, potheads and connections, etc.

15. Insulators, including pin, suspension, and other types, and tie wire or clamps.

16. Lightning arresters.

17. Paving, pavement disturbed, including cutting and replacing pavement, pavement base, and sidewalks.

18. Permits for construction.

19. Pole steps and ladders.

20. Poles, wood, steel, concrete, or other material.

21. Racks complete with insulators.

22. Railings.

23. Railroad and highway crossing guards.

24. Reinforcing and stubbing.

25. Removal and relocation of subsurface obstructions.

26. Settings.

27. Sewer connections, including drains, traps, tide valves, check valves, etc.

28. Shaving, painting, gaining, roofing, stenciling, and tagging.

29. Splices.

30. Sumps, including pumps.

31. Switches.

32. Towers.

33. Tree trimming, initial cost including the cost of permits therefor.

34. Ventilating equipment.

35. Other line devices.

338.6 Generator step-up transformers (GSU).

This account shall include only the cost of the GSU transformers directly connected to the generator terminal tips and other equipment used for conveying the power to the GSU for the purpose of initially changing the voltage or frequency of electric energy for the purpose of moving the power. It shall exclude the cost of additional transformers and other equipment once the power has been initially stepped up from a generator voltage to a higher voltage.

Note: Do not include in this account transformers and other equipment used for changing the voltage or frequency of electricity for the purposes of transmission or distribution.

338.7 Inverters.

This account shall include the installed cost of inverters for the purpose of converting electricity from direct current (DC) to alternating current (AC).

338.8 Other accessory electrical equipment.

This account shall include the installed cost of other conversion or auxiliary generating apparatus and equipment used primarily in connection with the control and switching of electric energy produced by solar panels, including weather monitoring equipment, and protection of electric circuits and equipment, as used to support the generator in the action of generating power (excluding SCADA systems) not specifically chargeable to any other account. This account shall exclude Collector System costs, account 338.5, Collector System; GSU costs, account 338.6, Generator Step-up Transformers (GSU); and Inverter costs, account 338.7, Inverters.

Items

1. Auxiliary generators, including boards, compartments, switching equipment, control equipment, and connections to auxiliary power bus.

2. Rheostats, backup storage batteries and charging equipment, circuit breakers, panels and accessories, knife switches and accessories, surge arresters, instrument shunts, conductors and conduit, special supports for conduit, special housings, etc.

3. Generator main connections, including oil circuit breakers and accessories, disconnecting switches and accessories, operating mechanisms and interlocks, current transformers, potential transformers, protective relays, isolated panels and equipment, conductors and conduit, special supports for generator main leads, grounding switch, special housing, etc.

4. Station control system, including station switchboards with panel wiring, panels with instruments and control equipment only, panels with switching equipment mounted or mechanically connected, trunktype boards complete, cubicles, generator signal stands, temperature-recording devices, atmospheric reading devices, frequency control equipment, master clocks, watt-hour meter, station totalizing wattmeter, backup storage batteries, panels and charging sets, instrument transformers for supervisory metering, conductors and conduit, special supports for conduit, switchboards, emergency backup batteries, special housing for batteries, etc.

5. Station buses, including main, auxiliary transfer, synchronizing and fault ground buses, including oil circuit breakers and accessories, disconnecting switches and accessories, operating mechanisms and interlocks, reactors and accessories, voltage regulators and accessories, compensators, resistors, current transformers, potential transformers, protective relays, backup storage batteries and charging equipment, isolated panels and equipment, conductors and conduit, special supports, special housings, concrete pads, general station ground system, special fire-extinguishing system, and test equipment.

Note A: Do not include in this account transformers and other equipment used for changing the voltage or frequency of electric energy for the purpose of transmission or distribution.

Note B: When any item of equipment listed herein is used wholly to furnish power to equipment included in another account, its cost shall be included in such other account.

338.9 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

338.10 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

338.11 Communication equipment.

This account shall include the cost of communication equipment owned and used to acquire or share data and information.

Items

1. Fiber optic cable.

2. Remote terminal units.

3. Microwave towers.

4. Global Positioning System (GPS) equipment.

5. Servers.

6. Workstations.

7. Telephones.

338.12 Miscellaneous power plant equipment.

This account shall include the installed cost of miscellaneous equipment in and about the solar plant devoted to general station use, and which is not properly includible in any of the foregoing solar power production accounts.

Items

1. Compressed air and vacuum cleaning systems, including tanks, compressors, exhausters, air filters, piping, etc.

2. Cranes and hoisting equipment, including cranes, cars, crane rails, monorails, hoists, etc., with electric and mechanical connections.

3. Fire-extinguishing equipment for general station use.

4. Foundations and settings, specially constructed for and not expected to outlast the apparatus for which provided.

5. Miscellaneous equipment, including atmospheric and weather indicating devices, intrasite communication equipment, laboratory equipment, signal systems, callophones, emergency whistles and sirens, fire alarms, and other similar equipment.

6. Miscellaneous belts, pulleys, countershafts, etc.

7. Refrigerating system including compressors, pumps, cooling coils, etc.

8. Station maintenance equipment, including lathes, shapers, planers, drill presses, hydraulic presses, grinders, etc., with motors, shafting, hangers, pulleys, etc.

9. Ventilating equipment, including items wholly identified with apparatus listed herein.

Note: When any item of equipment, listed herein is used wholly in connection with equipment included in another account, its cost shall be included in such other account.

338.13 Asset retirement costs for solar production.

This account shall include asset retirement costs on plant included in solar production function.

338.20 Land and land rights.

This account shall include the cost of land and land rights used in connection with wind power generation. (See electric plant instruction 7.)

338.21 Structures and improvements.

This account shall include the cost in place of structures and improvements used in connection with wind power generation. (See electric plant instruction 8.)

338.22 [Reserved]

338.23 Wind turbines.

This account shall include the cost installed of the mechanical turbine parts and generator equipment, including nacelle, gearbox, etc., to be used primarily for generating electricity.

338.24 Wind towers and fixtures.

This account shall include the cost installed of towers and appurtenant fixtures used for supporting wind power production. Foundations shall be included in account 338.21 Structures and Improvements.

338.25 [Reserved]

338.26 Collector system.

This account shall include all cost of cabling, junction boxes, connection cabinets, and all facilities and devices (such as capacitors and reactors) that are used to transport and consolidate the power fed from individual wind turbines up to, but not including, the substation prior to interconnection to the grid. This account shall exclude the cost of transformers and other equipment used for the express purpose of interconnecting to transmission or distribution lines.

Items

1. Anchors, head arm, and other guys, including guy guards, guy clamps, strain insulators, pole plates, etc.

2. Armored conductors, buried, submarine, including insulators, insulating materials, splices in terminal chamber, potheads, etc.

3. Brackets.

4. Circuit breakers.

5. Conductors, including insulated and bare wires and cables.

6. Conduit, concrete, brick and tile, including iron pipe, fiber pipe, Murray duct, and standpipe on pole or tower.

7. Crossarms and braces.

8. Excavation and backfill, including shoring, bracing, bridging, and disposal of excess excavated material.

9. Extension arms.

10. Fireproofing, in connection with any items listed herein.

11. Foundations and settings specially constructed for and not expected to outlast the apparatus for which constructed.

12. Ground wires, clamps, etc.

13. Guards.

14. Hollow-core oil-filled cable, including straight or stop joints, pressure tanks, auxiliary air tanks, feeding tanks, terminals, potheads and connections, etc.

15. Insulators, including pin, suspension, and other types, and tie wire or clamps.

16. Lightning arresters.

17. Paving, pavement disturbed, including cutting and replacing pavement, pavement base, and sidewalks.

18. Permits for construction.

19. Pole steps and ladders.

20. Poles, wood, steel, concrete, or other material.

21. Racks complete with insulators.

22. Railings.

23. Railroad and highway crossing guards.

24. Reinforcing and stubbing.

25. Removal and relocation of subsurface obstructions.

26. Settings.

27. Sewer connections, including drains, traps, tide valves, check valves, etc.

28. Shaving, painting, gaining, roofing, stenciling, and tagging.

29. Splices.

30. Sumps, including pumps.

31. Switches.

32. Towers.

33. Tree trimming, initial cost including the cost of permits therefor.

34. Ventilating equipment.

35. Other line devices.

338.27 Generator step-up transformers (GSU).

This account shall include only the cost of the GSU transformers and other equipment used for conveying the power to the pad-mount GSU for the purpose of initially changing the voltage or frequency of electric energy for the purpose of moving the power. It shall exclude the cost of additional transformers and other equipment once the power has been initially stepped up from a generator voltage to a higher voltage.

Note: Do not include in this account transformers and other equipment used for changing the voltage or frequency of electricity for the purposes of transmission or distribution.

338.28 Inverters.

This account shall include the installed cost of inverters for the purpose of converting electricity from direct current (DC) to alternating current (AC).

338.29 Other accessory electrical equipment.

This account shall include the installed cost of other conversion or auxiliary generating apparatus and equipment used primarily in connection with the control and switching of electric energy produced by wind turbines, including weather monitoring equipment, and protection of electric circuits and equipment, as used to support the generator in the action of generating power (excluding SCADA systems) not specifically chargeable to any other account. This account shall exclude Collector System costs, account 338.26, Collector System; GSU costs, account 338.27, Generator Step-up Transformers (GSU); and Inverter costs, account 338.28, Inverters.

Items

1. Auxiliary generators, including boards, compartments, switching equipment, control equipment, and connections to auxiliary power bus.

2. Rheostats, backup storage batteries and charging equipment, circuit breakers, panels and accessories, knife switches and accessories, surge arresters, instrument shunts, conductors and conduit, special supports for conduit, special housings, etc.

3. Generator main connections, including oil circuit breakers and accessories, disconnecting switches and accessories, operating mechanisms and interlocks, current transformers, potential transformers, protective relays, isolated panels and equipment, conductors and conduit, special supports for generator main leads, grounding switch, special housing, etc.

4. Station control system, including station switchboards with panel wiring, panels with instruments and control equipment only, panels with switching equipment mounted or mechanically connected, trunktype boards complete, cubicles, station supervisory control boards, generator signal stands, temperature-recording devices, atmospheric reading devices, frequency control equipment, master clocks, watt-hour meter, station totalizing wattmeter, backup storage batteries, panels and charging sets, instrument transformers for supervisory metering, conductors and conduit, special supports for conduit, switchboards, emergency backup batteries, special housing for batteries, etc.

5. Station buses, including main, auxiliary transfer, synchronizing and fault ground buses, including oil circuit breakers and accessories, disconnecting switches and accessories, operating mechanisms and interlocks, reactors and accessories, voltage regulators and accessories, compensators, resistors, current transformers, potential transformers, protective relays, backup storage batteries and charging equipment, isolated panels and equipment, conductors and conduit, special supports, special housings, concrete pads, general station ground system, special fire-extinguishing system, and test equipment.

Note A: Do not include in this account transformers and other equipment used for changing the voltage or frequency of electric energy for the purpose of transmission or distribution.

Note B: When any item of equipment listed herein is used wholly to furnish power to equipment included in another account, its cost shall be included in such other account.

338.30 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

338.31 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

338.32 Communication equipment.

This account shall include the cost of communication equipment owned and used to acquire or share data and information.

Items

1. Fiber optic cable.

2. Remote terminal units.

3. Microwave towers.

4. Global Positioning System (GPS) equipment.

5. Servers.

6. Workstations.

7. Telephones.

338.33 Miscellaneous power plant equipment.

This account shall include the installed cost of miscellaneous equipment in and about the wind plant devoted to general station use, and which is not properly includible in any of the foregoing wind power production accounts.

338.34 Asset retirement costs for wind production.

This account shall include asset retirement costs on plant included in wind production function.

339.1 Land and land rights.

This account shall include the cost of land and land rights used in connection with other renewable power generation. (See electric plant instruction 7.)

339.2 Structures and improvements.

This account shall include the cost in place of structures and improvements used in connection with other renewable power generation. (See electric plant instruction 8.)

Note: this includes mirrors for solar boiler systems.

339.3 Fuel holders.

This account shall include the cost installed of renewable fuel handling and storage equipment used between the point of fuel delivery to the station and the intake through which fuel is either directly drawn to the engine, or into a boiler system, inclusive.

Items

1. Blower and fans.

2. Boilers and pumps.

3. Economizers.

4. Exhauster outfits.

5. Flues and piping.

6. Pipe system.

7. Producers.

8. Regenerators.

9. Scrubbers.

10. Steam injectors.

11. Tanks for storage of electrolytes, hydrogen, renewable natural gas, algae, etc.

12. Vaporizers.

339.4 Boilers.

This account shall include the cost installed of furnaces, boilers, steam and feed water piping, boiler apparatus and accessories used in the production of steam or other vapor, to be used primarily for generating electricity. This account includes solar boiler systems.

Items

1. Boiler feed system, including feed water heaters, evaporator condensers, heater drain pumps, heater drainers, deaerators, and vent condensers, boiler feed pumps, surge tanks, feed water regulators, feed water measuring equipment, and all associated drives.

2. Boiler plant cranes and hoists and associated drives.

3. Boilers and equipment, including boilers and baffles, economizers, superheaters, foundations and settings, water walls, arches, grates, insulation, blow-down system, drying out of new boilers, also associated motors or other power equipment.

4. Draft equipment, including air preheaters and accessories, induced and forced draft fans, air ducts, combustion control mechanisms, and associated motors or other power equipment.

5. Gas-burning equipment, including holders, burner equipment and piping, control equipment, etc.

6. Instruments and devices, including all measuring, indicating, and recording equipment for boiler plant service together with mountings and supports.

7. Lighting systems.

8. Stacks, including foundations and supports, stack steel and ladders, stack concrete, stack lining, stack painting (first), when set on separate foundations, independent of substructure or superstructure of building.

9. Station piping, including pipe, valves, fittings, separators, traps, desuperheaters, hangers, excavation, covering, etc., for station piping system, including all steam, condensate, boiler feed and water supply piping, etc.

10. Ventilating equipment.

11. Water purification equipment, including softeners and accessories, evaporators and accessories, heat exchangers, filters, tanks for filtered or softened water, pumps, motors, etc.

12. Water-supply systems, including pumps, motors, strainers, raw-water storage tanks, boiler wash pumps, intake and discharge pipes and tunnels not a part of a building.

339.5 [Reserved]

339.6 Generators.

This account shall include the cost installed of other renewable generators of all types apart from wind and solar.

Items

1. Cranes, hoists, etc., including items wholly identified with such apparatus.

2. Fire-extinguishing equipment.

3. Foundations and settings, specially constructed for and not expected to outlast the apparatus for which provided.

4. Generator cooling system, including air cooling and washing apparatus, air fans and accessories, air ducts, etc.

5. Generators—main, a.c. or d.c., including field rheostats and connections for self-excited units and excitation system when identified with the generating unit.

6. Lighting systems.

7. Lubricating system, including tanks, filters, strainers, pumps, piping, coolers, etc.

8. Mechanical meters, and recording instruments.

9. Platforms, railings, steps, gratings, etc., appurtenant to apparatus listed herein.

10. Cooling system, including towers, pumps, tank, and piping.

11. Piping—main exhaust, including connections between generator and condenser and between condenser and hotwell.

12. Piping—main steam, including connections from main throttle valve to turbine inlet.

13. Circulating pumps, including connections between condensers and intake and discharge tunnels.

14. Tunnels, intake and discharge, for condenser system, when not a part of structure, water screens, etc.

15. Water screens, motors, etc.

16. Moisture separator for turbine steam.

17. Turbine lubricating oil (initial charge).

339.7 [Reserved]

339.8 Other accessory electrical equipment.

This account shall include the installed cost of other conversion or auxiliary generating apparatus and equipment used primarily in connection with the control and switching of electric energy produced by other renewable, including weather monitoring equipment, and protection of electric circuits and equipment as used to support the generator in the action of generating power (excluding SCADA systems) not specifically chargeable to any other account.

Items

1. Auxiliary generators, including boards, compartments, switching equipment, control equipment, and connections to auxiliary power bus.

2. Rheostats, backup storage batteries and charging equipment, circuit breakers, panels and accessories, knife switches and accessories, surge arresters, instrument shunts, conductors and conduit, special supports for conduit, special housings, etc.

3. Generator main connections, including oil circuit breakers and accessories, disconnecting switches and accessories, operating mechanisms and interlocks, current transformers, potential transformers, protective relays, isolated panels and equipment, conductors and conduit, special supports for generator main leads, grounding switch, special housing, etc.

4. Station control system, including station switchboards with panel wiring, panels with instruments and control equipment only, panels with switching equipment mounted or mechanically connected, trunktype boards complete, cubicles, station supervisory control boards, generator signal stands, temperature-recording devices, atmospheric reading devices, frequency control equipment, master clocks, watt-hour meter, station totalizing wattmeter, backup storage batteries, panels and charging sets, instrument transformers for supervisory metering, conductors and conduit, special supports for conduit, switchboards, emergency backup batteries, special housing for batteries, etc.

5. Station buses, including main, auxiliary transfer, synchronizing and fault ground buses, including oil circuit breakers and accessories, disconnecting switches and accessories, operating mechanisms and interlocks, reactors and accessories, voltage regulators and accessories, compensators, resistors, current transformers, potential transformers, protective relays, backup storage batteries and charging equipment, isolated panels and equipment, conductors and conduit, special supports, special housings, concrete pads, general station ground system, special fire-extinguishing system, and test equipment.

Note A: Do not include in this account transformers and other equipment used for changing the voltage or frequency of electric energy for the purpose of transmission or distribution.

Note B: When any item of equipment listed herein is used wholly to furnish power to equipment included in another account, its cost shall be included in such other account.

339.9 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

339.10 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

339.11 Communication equipment.

This account shall include the cost of communication equipment owned and used to acquire or share data and information.

Items

1. Fiber optic cable.

2. Remote terminal units.

3. Microwave towers.

4. Global Positioning System (GPS) equipment.

5. Servers.

6. Workstations.

7. Telephones.

339.12 Miscellaneous power plant equipment.

This account shall include the installed cost of miscellaneous equipment in and about the other renewable plant devoted to general station use, and which is not properly includible in any of the foregoing other renewable power production accounts.

339.13 Asset retirement costs for other renewable production.

This account shall include asset retirement costs on plant included in other renewable production function.

* * * * *

345.1 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

345.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

345.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

348 [Reserved]

* * * * *

351 [Reserved]

351.1 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

351.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

351.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

363 [Reserved]

363.1 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

363.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

363.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

387 [Reserved]

387.1 Land and land rights.

This account shall include the cost of land and land rights used in connection with energy storage plant. (See electric plant instruction 7.)

387.2 Structures and improvements.

This account shall include the cost in place of structures and improvements used in connection with energy storage plant. (See electric plant instruction 8.)

387.3 Energy storage equipment.

A. This account shall include the cost installed of energy storage equipment used to store energy for load managing purposes.

B. Labor costs and power purchased to energize the equipment are includible on the first installation only. The cost of removing, relocating and resetting energy storage equipment shall not be charged to this account but to operations and maintenance expense accounts for energy storage expenses, as appropriate.

Items

1. Batteries/Chemical.

2. Compressed Air.

3. Flywheels.

4. Superconducting Magnetic Storage.

5. Thermal.

Note: The cost of pumped storage hydroelectric plant shall be charged to hydraulic production plant. These are examples of items includible in this account. This list is not exhaustive.

387.4 [Reserved]

387.5 Collector system.

This account shall include all cost of cabling, junction boxes, connection cabinets, and all facilities and devices (such as capacitors and reactors) that are used to transport and consolidate the power fed from individual storage facilities up to, but not including, the substation prior to interconnection to the grid. This account shall exclude the cost of transformers and other equipment used for the express purpose of interconnecting to transmission or distribution lines.

Items

1. Anchors, head arm, and other guys, including guy guards, guy clamps, strain insulators, pole plates, etc.

2. Armored conductors, buried, submarine, including insulators, insulating materials, splices in terminal chamber, potheads, etc.

3. Brackets.

4. Circuit breakers.

5. Conductors, including insulated and bare wires and cables.

6. Conduit, concrete, brick and tile, including iron pipe, fiber pipe, Murray duct, and standpipe on pole or tower.

7. Crossarms and braces.

8. Excavation and backfill, including shoring, bracing, bridging, and disposal of excess excavated material.

9. Extension arms.

10. Fireproofing, in connection with any items listed herein.

11. Foundations and settings specially constructed for and not expected to outlast the apparatus for which constructed.

12. Ground wires, clamps, etc.

13. Guards.

14. Hollow-core oil-filled cable, including straight or stop joints, pressure tanks, auxiliary air tanks, feeding tanks, terminals, potheads and connections, etc.

15. Insulators, including pin, suspension, and other types, and tie wire or clamps.

16. Lightning arresters.

17. Paving, pavement disturbed, including cutting and replacing pavement, pavement base, and sidewalks.

18. Permits for construction.

19. Pole steps and ladders.

20. Poles, wood, steel, concrete, or other material.

21. Racks complete with insulators.

22. Railings.

23. Railroad and highway crossing guards.

24. Reinforcing and stubbing.

25. Removal and relocation of subsurface obstructions.

26. Settings.

27. Sewer connections, including drains, traps, tide valves, check valves, etc.

28. Shaving, painting, gaining, roofing, stenciling, and tagging.

29. Splices.

30. Sumps, including pumps.

31. Switches.

32. Towers.

33. Tree trimming, initial cost including the cost of permits therefor.

34. Ventilating equipment.

35. Other line devices.

387.6 Generator step-up transformers (GSU).

This account shall include only the cost of the GSU transformers and other equipment used for conveying the power to the pad-mount GSU for the purpose of initially changing the voltage or frequency of electric energy for the purpose of moving the power. It shall exclude the cost of additional transformers and other equipment once the power has been initially stepped up from a generator voltage to a higher voltage.

Note: Do not include in this account transformers and other equipment used for changing the voltage or frequency of electricity for the purposes of transmission or distribution.

387.7 Inverters.

This account shall include the installed cost of inverters for the purpose of converting electricity from direct current (DC) to alternating current (AC).

387.8 Computer hardware.

This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

387.9 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

387.10 Communication equipment.

This account shall include the cost of communication equipment owned and used to acquire or share data and information.

Items

1. Fiber optic cable.

2. Remote terminal units.

3. Microwave towers.

4. Global Positioning System (GPS) equipment.

5. Servers.

6. Workstations.

7. Telephones.

387.11 Miscellaneous energy storage equipment.

This account shall include the installed cost of miscellaneous equipment in and about the energy storage equipment devoted to general station use, and which is not properly includible in any of the foregoing energy storage plant accounts.

387.12 Asset retirement costs for energy storage plant.

This account shall include asset retirement costs on plant included in the energy storage plant function.

* * * * *

397 [Reserved]

397.1 Computer hardware.This account shall include the cost of computer hardware and miscellaneous information technology equipment.

Items

1. Personal computers.

2. Servers.

3. Workstations.

4. Energy Management System (EMS) hardware.

5. Supervisory Control and Data Acquisition (SCADA) system hardware.

6. Peripheral equipment.

7. Networking components.

397.2 Computer software.

This account shall include the cost of off-the-shelf and in-house developed software.

Items

1. Software licenses.

2. User interface software.

3. Modeling software.

4. Database software.

5. Tracking and monitoring software.

6. Energy Management System (EMS) software.

7. Supervisory Control and Data Acquisition (SCADA) system software.

8. Evaluation and assessment system software.

9. Operating, planning and transaction scheduling software.

10. Reliability applications.

11. Market application software.

397.3 Communication equipment.

This account shall include the cost of communication equipment owned and used to acquire or share data and information.

Items

1. Fiber optic cable.

2. Remote terminal units.

3. Microwave towers.

4. Global Positioning System (GPS) equipment.

5. Servers.

6. Workstations.

7. Telephones.

* * * * *

8. Under Income Chart of Accounts, section 1, “Utility Operating Income”, add accounts 411.11 and 411.12 to read as follows;

Income Chart of Accounts

1. Utility Operating Income

* * * * *

411.11 Gains from disposition of environmental credits.

411.12 Losses from disposition of environmental credits.

* * * * *

9. Under “Income Accounts”, add accounts 411.11 and 411.12 to read as follows;

Income Accounts

* * * * *

411.11 Gains from disposition of environmental credits.

This account shall be credited with the gain on the sale, exchange, or other disposition of environmental credits in accordance with paragraph (I) of General Instruction No. 21. Income taxes relating to gains recorded in this account shall be recorded in account 409.1, Income Taxes, Utility Operating Income.

Note: Revenues for environmental credits associated with the sale of energy shall be recorded in the appropriate operating revenue account consistent with General Instruction No. 21 (J).

411.12 Losses from disposition of environmental credits.

This account shall be debited with the loss on the sale, exchange, or other disposition of environmental credits in accordance with paragraph (I) of General Instruction No. 21. Income taxes relating to losses recorded in this account shall be recorded in account 409.1, Income Taxes, Utility Operating Income.

* * * * *

10. In the list of accounts under “Operation and Maintenance Expense Chart of Accounts”:

i. Under section 1.a, under “Maintenance”, add accounts 513.1, 513.2, and 513.3;

ii. Under section 1.b, under “Maintenance”, add accounts 531.1, 531.2, and 531.3;

iii. Under section 1.c, under “Maintenance”, add accounts 544.1, 544.2, and 544.3;

iv. Under section 1.d, under “Operation”, remove and reserve account 548.1;

v. Under section 1.d, under “Maintenance”, revise account 553.1, and add accounts 553.2, and 553.3

vi. Under section 1.e, add accounts 555.2, and 555.3;

vii. Add sections 1.f, “solar generation”, 1.g “wind generation”, and 1.h, “other renewable generation”;

viii. Under section 2, under subtitle “Operation” remove and reserve account 562.1;

ix. Under section 2, under subtitle “Maintenance”, revise accounts 569.1, 569.2, and 569.3, and remove and reserve account 570.1;

x. Redesignate sections 4 “Distribution Expenses” through 8 “Administrative and General Expenses”, as sections 5 through 9;

xi. Add a new section 4, “Energy Storage Expenses”;

xii. Under newly redesignated section 5, “Distribution Expenses”, remove and reserve account 584.1, revise account 592.2, and add accounts 592.3, and 592.4; and

xiii. Under newly redesignated section 9, “Administrative and General Expenses”, add accounts 935.1, 935.2, and 935.3;

The revisions and additions read as follows:

Operation and Maintenance Expense Chart of Accounts

1. Power Production Expenses

a. steam power generation

* * * * *

Maintenance

* * * * *

513.1 Maintenance of computer hardware (Major only).

513.2 Maintenance of computer software (Major only).

513.3 Maintenance of communication equipment (Major only).

* * * * *

b. nuclear power generation

* * * * *

Maintenance

* * * * *

531.1 Maintenance of computer hardware (Major only).

531.2 Maintenance of computer software (Major only).

531.3 Maintenance of communication equipment (Major only).

* * * * *

c. hydraulic power generation

* * * * *

Maintenance

* * * * *

544.1 Maintenance of computer hardware (Major only).

544.2 Maintenance of computer software (Major only).

544.3 Maintenance of communication equipment (Major only).

* * * * *

d. other power generation

* * * * *

Operation

* * * * *

548.1 [Reserved]

* * * * *

Maintenance

* * * * *

553.1 Maintenance of computer hardware (Major only).

553.2 Maintenance of computer software (Major only).

553.3 Maintenance of communication equipment (Major only).

* * * * *

e. other power supply expenses

555.2 Bundled environmental credits.

555.3 Unbundled environmental credits.

* * * * *

f. solar generation

Operation

558.1 Operation supervision and engineering.

558.2 Solar panel generation and other plant operating expenses (Major only).

558.3 [Reserved]

558.4 Rents.

558.5 Operation supplies and expenses (Nonmajor only).

Maintenance

558.6 Maintenance supervision and engineering (Major only).

558.7 Maintenance of solar panels, structures, and equipment (Major only).

558.8 Maintenance of computer hardware (Major only).

558.9 Maintenance of computer software (Major only).

558.10 Maintenance of communication equipment (Major only).

558.11 Maintenance of miscellaneous solar generation plant (Major only).

558.12 Maintenance of solar generation plant (Nonmajor only).

g. wind generation

Operation

558.13 Operation supervision and engineering.

558.14 Wind turbine generation and other plant operating expenses (Major only).

558.15 [Reserved]

558.16 Rents.

558.17 Operation supplies and expenses (Nonmajor only).

Maintenance

558.18 Maintenance supervision and engineering (Major only).

558.19 Maintenance of wind turbines, structures, and equipment (Major only).

558.20 Maintenance of computer hardware (Major only).

558.21 Maintenance of computer software (Major only).

558.22 Maintenance of communication equipment (Major only).

558.23 Maintenance of miscellaneous wind generation plant (Major only).

558.24 Maintenance of wind generation plant (Nonmajor only).

h. other renewable generation

Operation

559.1 Operation supervision and engineering.

559.2 Other miscellaneous generation and other plant operating expenses (Major only).

559.3 Fuel.

559.4 Rents.

559.5 Operation supplies and expenses (Nonmajor only).

Maintenance

559.6 Maintenance supervision and engineering (Major only).

559.7 Maintenance of structures (Major only).

559.8 [Reserved]

559.9 Maintenance of boilers (Major only).

559.10 Maintenance of generating and electric equipment (Major only).

559.11 [Reserved]

559.12 Maintenance of computer hardware (Major only).

559.13 Maintenance of computer software (Major only).

559.14 Maintenance of communication equipment (Major only).

559.15 Maintenance of miscellaneous other renewable generation plant (Major only).

559.16 Maintenance of other renewable generation plant (Nonmajor only).

2. Transmission Expenses

Operation

* * * * *

562.1 [Reserved]

* * * * *

Maintenance

* * * * *

569.1 Maintenance of computer hardware (Major only).

569.2 Maintenance of computer software (Major only).

569.3 Maintenance of communication equipment (Major only).

* * * * *

570.1 [Reserved]

* * * * *

4. Energy Storage Expenses

Operation

577.1 Operation supervision and engineering.

577.2 Operation of energy storage equipment (Major only).

577.3 Storage fuel.

577.4 Rents.

577.5 Operation supplies and expenses (Nonmajor only).

Maintenance

578.1 Maintenance supervision and engineering (Major only).

578.2 Maintenance of energy storage equipment and structures (Major only).

578.3 Maintenance of computer hardware (Major only).

578.4 Maintenance of computer software (Major only).

578.5 Maintenance of communication equipment (Major only).

578.6 Maintenance of miscellaneous other energy storage plant (Major only).

578.7 Maintenance of other energy storage plant (Nonmajor only).

5. Distribution Expenses

Operation

* * * * *

584.1 [Reserved]

* * * * *

Maintenance

* * * * *

592.2 Maintenance of computer hardware (Major only).

592.3 Maintenance of computer software (Major only).

592.4 Maintenance of communication equipment (Major only).

* * * * *

9. Administrative and General Expenses

* * * * *

Maintenance

* * * * *

935.1 Maintenance of computer hardware (Major only).

935.2 Maintenance of computer software (Major only).

935.3 Maintenance of communication equipment (Major only).

* * * * *

11. Under Operation and Maintenance Expense Accounts:

i. Revise account 509;

ii. Add accounts 513.1, 513.2, 513.3, 531.1, 531.2, 531.3, 544.1, 544.2, and 544.3;

iii. Remove and reserve account 548.1;

iv. Revise account 553.1;

v. Add accounts 553.2, 553.3, 555.2, 555.3, 558.1 through 558.24, and 559.1 through 559.16;

vi. Remove and reserve account 562.1;

vii. Revise accounts 569.1, 569.2, and 569.3;

viii. Remove and reserve account 570.1;

ix. Add accounts 577.1, 577.2 through 577.5, and 578.1 through 578.7;

x. Remove and reserve account 584.1; and

xi. Add account 592.2, 592.3, 592.4, 935.1, 935.2, and 935.3.

The revisions and additions read as follows:

Operation and Maintenance Expense Accounts

* * * * *

509 Allowances.

This account shall include the cost of allowances expensed concurrent with the monthly emissions. (See General Instruction No. 21.)

513.1 Maintenance of computer hardware (Major only).

The account shall include the cost of labor, materials used and expenses incurred in the maintenance of computer hardware serving the steam power generation subfunction. (See operating expense instruction 2.)

513.2 Maintenance of computer software (Major only).

This account shall include the cost of labor, materials used and expenses incurred for annual computer software license renewals, annual software update services and the cost of ongoing support for software products serving the steam power generation subfunction. (See operating expense instruction 2.)

513.3 Maintenance of communication equipment (Major only).

This account shall include the cost of labor, materials used and expenses incurred in the maintenance of communication equipment serving the steam power generation subfunction. (See operating expense instruction 2.)

* * * * *

531.1 Maintenance of computer hardware (Major only).

The account shall include the cost of labor, materials used and expenses incurred in the maintenance of computer hardware serving the nuclear power generation subfunction. (See operating expense instruction 2.)

531.2 Maintenance of computer software (Major only).

This account shall include the cost of labor, materials used and expenses incurred for annual computer software license renewals, annual software update services and the cost of ongoing support for software products serving the nuclear power generation subfunction. (See operating expense instruction 2.)

531.3 Maintenance of communication equipment (Major only).

This account shall include the cost of labor, materials used and expenses incurred in the maintenance of communication equipment serving the nuclear power generation subfunction. (See operating expense instruction 2.)

* * * * *

544.1 Maintenance of computer hardware (Major only).

The account shall include the cost of labor, materials used and expenses incurred in the maintenance of computer hardware serving the hydraulic power generation subfunction. (See operating expense instruction 2.)

544.2 Maintenance of computer software (Major only).

This account shall include the cost of labor, materials used and expenses incurred for annual computer software license renewals, annual software update services and the cost of ongoing support for software products serving the hydraulic power generation subfunction. (See operating expense instruction 2.)

544.3 Maintenance of communication equipment (Major only).

This account shall include the cost of labor, materials used and expenses incurred in the maintenance of communication equipment serving the hydraulic power generation subfunction. (See operating expense instruction 2.)

* * * * *

548.1 [Reserved]

* * * * *

553.1 Maintenance of computer hardware (Major only).

The account shall include the cost of labor, materials used and expenses incurred in the maintenance of computer hardware serving the other power generation subfunction. (See operating expense instruction 2.)

553.2 Maintenance of computer software (Major only).

This account shall include the cost of labor, materials used and expenses incurred for annual computer software license renewals, annual software update services and the cost of ongoing support for software products serving the other power generation subfunction. (See operating expense instruction 2.)

553.3 Maintenance of communication equipment (Major only).

This account shall include the cost of labor, materials used and expenses incurred in the maintenance of communication equipment serving the other power generation subfunction. (See operating expense instruction 2.)

* * * * *

555.2 Bundled environmental credits.

For environmental credits that were bundled with energy, this account shall include the cost of environmental credits expensed concurrent with the monthly usage. (See General Instruction No. 21.)

555.3 Unbundled environmental credits.

For environmental credits that were unbundled from energy, this account shall include the cost of environmental credits expensed concurrent with the monthly usage. (See General Instruction No. 21.)

* * * * *

558.1 Operation supervision and engineering.

A. For Major Utilities, this account shall include the cost of labor and expenses incurred in the general supervision and direction of the operation of solar power generating stations. Direct supervision of specific activities shall be charged to the appropriate account. (See operating expense instruction 1.)

B. For Nonmajor Utilities, this account shall include the cost of supervision and labor in the operation of solar power generating stations.

Labor

1. Supervising solar production.

2. Operating solar panels, auxiliary apparatus and switching and other electric equipment.

3. Operating switchboards, switch gear and electric control and protective equipment.

4. Keeping electric plant log and records and preparing reports on electric plant operations.

5. Testing, checking and adjusting meters, gauges, and other instruments, relays, controls and other equipment in the electric plant.

6. Cleaning electric plant equipment when not incidental to maintenance work.

558.2 Solar panel generation and other plant operating expenses (Major only).

This account shall include the cost of labor, materials used and expenses incurred in operating solar generation and their auxiliary apparatus, switch gear and other electric equipment to the points where electricity leaves for conversion for transmission or distribution, or are not readily assignable to other solar generation operation expense accounts.

Labor

1. Operating switchboards, switch gear and electric control and protective equipment.

2. Operating solar generators and auxiliary apparatus and switching and other electric equipment.

3. Keeping electric plant log and records and preparing reports on electric plant operations.

4. Testing, checking and adjusting meters, gauges, and other instruments, relays, controls and other equipment in the electric plant.

5. Cleaning electric plant equipment when not incidental to maintenance work.

6. General clerical work.

7. Guarding and patrolling plant and yard.

8. Building service.

9. Care of grounds including snow removal, cutting grass, etc.

10. Miscellaneous labor.

Materials and Expenses

11. Lubricants and control system oils.

12. General operating supplies, such as tools, gaskets, packing waste, gauge glasses, hose, indicating lamps, record and report forms, etc.

13. First-aid supplies and safety equipment.

14. Employees' service facilities expenses.

15. Building service supplies.

16. Communication service.

17. Miscellaneous office supplies and expenses, printing and stationery.

18. Transportation expenses.

19. Meals, traveling and incidental expenses.

20. Water for fire protection or general use.

21. Research, development, and demonstration expenses.

558.3 [Reserved]

558.4 Rents.

This account shall include all rents of property of others used, occupied or operated in connection with solar power generation. (See operating expense instruction 3.)

558.5 Operation supplies and expenses (Nonmajor only).

This account shall include the cost of materials used and expenses incurred in the operation of solar power generating stations.

Items

1. Lubricants and control system oils.

2. General operating supplies, such as tools, packing waste, hose, indicating lamps, record and report forms, etc.

3. First-aid supplies and safety equipment.

4. Employees' service facilities expenses.

5. Building service supplies.

6. Communication service.

7. Miscellaneous office supplies and expenses, printing and stationery.

8. Transportation expenses.

9. Meals, traveling and incidental expenses.

10. Water for fire protection or general use.

558.6 Maintenance supervision and engineering (Major only).

This account shall include the cost of labor and expenses incurred in the general supervision and direction of maintenance of solar generation facilities. Direct field supervision of specific jobs shall be charged to the appropriate maintenance account. (See operating expense instruction 1.)

558.7 Maintenance of solar panels, structures, and equipment (Major only).

This account shall include the cost of labor, materials used and expenses incurred in the maintenance of solar structures, solar panels, and other solar plant equipment, the book cost of which is includible in account 338.2, Structures and Improvements, account 338.4, Solar Panels, account 338.5, Collector System, account 338.6, Generator Step-up Transformers (GSU), account 338.7, Inverters, and account 338.8, Other Accessory Electrical Equipment. (See operating expense instruction 2.)

558.8 Maintenance of computer hardware (Major only).

The account shall include the cost of labor, materials used and expenses incurred in the maintenance of computer hardware serving the solar generation subfunction. (See operating expense instruction 2.)

558.9 Maintenance of computer software (Major only).

This account shall include the cost of labor, materials used and expenses incurred for annual computer software license renewals, annual software update services and the cost of ongoing support for software products serving the solar generation subfunction. (See operating expense instruction 2.)

558.10 Maintenance of communication equipment (Major only).

This account shall include the cost of labor, materials used and expenses incurred in the maintenance of communication equipment serving the solar generation subfunction. (See operating expense instruction 2.)

558.11 Maintenance of miscellaneous solar generation plant (Major only).

This account shall include the cost of labor, materials used and expenses incurred in maintenance of miscellaneous solar generation plant, the book cost of which is includible in account 338.12, Miscellaneous Power Plant Equipment. (See operating expense instruction 2.)

558.12 Maintenance of solar generation plant (Nonmajor only).

This account shall include the cost of labor, materials used and expenses incurred in the maintenance of solar generation plant the book cost of which is includible in plant accounts 338.2 to 338.12, inclusive. (See operating expense instruction 2.)

558.13 Operation supervision and engineering.

A. For Major Utilities, this account shall include the cost of labor and expenses incurred in the general supervision and direction of the operation of wind power generating stations. Direct supervision of specific activities shall be charged to the appropriate account. (See operating expense instruction 1.)

B. For Nonmajor Utilities, this account shall include the cost of supervision and labor in the operation of wind power generating stations.

Labor

1. Supervising wind production.

2. Operating wind turbines, generators and auxiliary apparatus and switching and other electric equipment.

3. Operating switchboards, switch gear and electric control and protective equipment.

4. Keeping electric plant log and records and preparing reports on electric plant operations.

5. Testing, checking and adjusting meters, gauges, and other instruments, relays, controls and other equipment in the electric plant.

6. Cleaning electric plant equipment when not incidental to maintenance work.

558.14 Wind turbine generation and other plant operating expenses (Major only).

This account shall include the cost of labor, materials used and expenses incurred in operating wind generation and their auxiliary apparatus, switch gear and other electric equipment to the points where electricity leaves for conversion for transmission or distribution, or are not readily assignable to other wind generation operation expense accounts.

Labor

1. Operating switchboards, switch gear and electric control and protective equipment.

2. Operating wind turbines, generators and auxiliary apparatus and switching and other electric equipment.

3. Keeping electric plant log and records and preparing reports on electric plant operations.

4. Testing, checking and adjusting meters, gauges, and other instruments, relays, controls and other equipment in the electric plant.

5. Cleaning electric plant equipment when not incidental to maintenance work.

6. General clerical work.

7. Guarding and patrolling plant and site.

8. Building service.

9. Care of grounds including snow removal, cutting grass, etc.

10. Miscellaneous labor.

Materials and Expenses

11. Lubricants and control system oils.

12. General operating supplies, such as tools, gaskets, packing waste, gauge glasses, hose, indicating lamps, record and report forms, etc.

13. First-aid supplies and safety equipment.

14. Employees' service facilities expenses.

15. Building service supplies.

16. Communication service.

17. Miscellaneous office supplies and expenses, printing and stationery.

18. Transportation expenses.

19. Meals, traveling and incidental expenses.

20. Water for fire protection or general use.

21. Research, development, and demonstration expenses.

558.15 [Reserved]

558.16 Rents.

This account shall include all rents of property of others used, occupied or operated in connection with wind power generation. (See operating expense instruction 3.)

558.17 Operation supplies and expenses (Nonmajor only).

This account shall include the cost of materials used and expenses incurred in the operation of wind power generating stations.

Items

1. Lubricants and control system oils.

2. General operating supplies, such as tools, packing waste, hose, indicating lamps, record and report forms, etc.

3. First-aid supplies and safety equipment.

4. Employees' service facilities expenses.

5. Building service supplies.

6. Communication service.

7. Miscellaneous office supplies and expenses, printing and stationery.

8. Transportation expenses.

9. Meals, traveling and incidental expenses.

10. Water for fire protection or general use.

558.18 Maintenance supervision and engineering (Major only).

This account shall include the cost of labor and expenses incurred in the general supervision and direction of maintenance of wind generation facilities. Direct field supervision of specific jobs shall be charged to the appropriate maintenance account. (See operating expense instruction 1.)

558.19 Maintenance of wind turbines, structures, and equipment (Major only).

This account shall include the cost of labor, materials used and expenses incurred in the maintenance of wind structures, the book cost of which is includible in account 338.21, Structures and Improvements, account 338.23, Wind Turbines, account 338.24, Wind Towers and Fixtures, account 338.26, Collector System, account 338.27, Generator Step-up Transformers (GSU), account 338.28, Inverters, and account 338.29, Other Accessory Electrical Equipment. (See operating expense instruction 2.)

558.20 Maintenance of computer hardware (Major only).

The account shall include the cost of labor, materials used and expenses incurred in the maintenance of computer hardware serving the wind generation subfunction. (See operating expense instruction 2.)

558.21 Maintenance of computer software (Major only).

This account shall include the cost of labor, materials used and expenses incurred for annual computer software license renewals, annual software update services and the cost of ongoing support for software products serving the wind generation subfunction. (See operating expense instruction 2.)

558.22 Maintenance of communication equipment (Major only).

This account shall include the cost of labor, materials used and expenses incurred in the maintenance of communication equipment serving the wind generation subfunction. (See operating expense instruction 2.)

558.23 Maintenance of miscellaneous wind generation plant (Major only).

This account shall include the cost of labor, materials used and expenses incurred in maintenance of miscellaneous wind generation plant, the book cost of which is includible in account 338.33, Miscellaneous Power Plant Equipment. (See operating expense instruction 2.)

558.24 Maintenance of wind generation plant (Nonmajor only).

This account shall include the cost of labor, materials used and expenses incurred in the maintenance of wind generation plant the book cost of which is includible in plant accounts 338.21 to 338.33, inclusive. (See operating expense instruction 2.)

559.1 Operation supervision and engineering.

A. For Major Utilities, this account shall include the cost of labor and expenses incurred in the general supervision and direction of the operation of other renewable power generating stations. Direct supervision of specific activities shall be charged to the appropriate account. (See operating expense instruction 1.)

B. For Nonmajor Utilities, this account shall include the cost of supervision and labor in the operation of other renewable power generating stations.

Labor

1. Supervising other renewable production.

2. Operating other renewable prime movers, generators and auxiliary apparatus and switching and other electric equipment.

3. Operating switchboards, switch gear and electric control and protective equipment.

4. Keeping electric plant log and records and preparing reports on electric plant operations.

5. Testing, checking and adjusting meters, gauges, and other instruments, relays, controls and other equipment in the electric plant.

6. Cleaning electric plant equipment when not incidental to maintenance work.

559.2 Other miscellaneous generation and other plant operating expenses (Major only).

This account shall include the cost of labor, materials used and expenses incurred in operating other renewable generation and their auxiliary apparatus, switch gear and other electric equipment to the points where electricity leaves for conversion for transmission or distribution, or are not readily assignable to other renewable generation operation expense accounts.

Labor

1. Operating switchboards, switch gear and electric control and protective equipment.

2. Operating other renewable prime movers, generators and auxiliary apparatus and switching and other electric equipment.

3. Keeping electric plant log and records and preparing reports on electric plant operations.

4. Testing, checking and adjusting meters, gauges, and other instruments, relays, controls and other equipment in the electric plant.

5. Cleaning electric plant equipment when not incidental to maintenance work.

6. General clerical work.

7. Guarding and patrolling plant and yard.

8. Building service.

9. Care of grounds including snow removal, cutting grass, etc.

10. Miscellaneous labor.

Materials and Expenses

11. Lubricants and control system oils.

12. General operating supplies, such as tools, gaskets, packing waste, gauge glasses, hose, indicating lamps, record and report forms, etc.

13. First-aid supplies and safety equipment.

14. Employees' service facilities expenses.

15. Building service supplies.

16. Communication service.

17. Miscellaneous office supplies and expenses, printing and stationery.

18. Transportation expenses.

19. Meals, traveling and incidental expenses.

20. Water for fire protection or general use.

21. Research, development, and demonstration expenses.

559.3 Fuel.

This account shall include the cost delivered at the station (see account 151, Fuel Stock, for Major utilities, and account 154, Plant Materials and Operating Supplies, for Nonmajor utilities) of all fuel, such as electrolytes, hydrogen, renewable natural gas, algae, etc., used in other power generation.

559.4 Rents.

This account shall include all rents of property of others used, occupied or operated in connection with other renewable power generation. (See operating expense instruction 3.)

559.5 Operation supplies and expenses (Nonmajor only).

This account shall include the cost of materials used and expenses incurred in the operation of other renewable power generating stations.

Items

1. Lubricants and control system oils.

2. General operating supplies, such as tools, packing waste, hose, indicating lamps, record and report forms, etc.

3. First-aid supplies and safety equipment.

4. Employees' service facilities expenses.

5. Building service supplies.

6. Communication service.

7. Miscellaneous office supplies and expenses, printing and stationery.

8. Transportation expenses.

9. Meals, traveling and incidental expenses.

10. Water for fire protection or general use.

559.6 Maintenance supervision and engineering (Major only).

This account shall include the cost of labor and expenses incurred in the general supervision and direction of maintenance of other renewable power generation facilities. Direct field supervision of specific jobs shall be charged to the appropriate maintenance account. (See operating expense instruction 1.)

559.7 Maintenance of structures (Major only).

This account shall include the cost of labor, materials used and expenses incurred in the maintenance of other renewable structures, the book cost of which is includible in account 339.2, Structures and Improvements, and account 339.3 Fuel Holders. (See operating expense instruction 2.)

559.8 [Reserved]

559.9 Maintenance of boilers (Major only).

This account shall include the cost of labor, materials used and expenses incurred in the maintenance of other renewable plant, the book cost of which is includible in account 339.4, Boilers. (See operating expense instruction 2.)

559.10 Maintenance of generating and electric equipment (Major only).

This account shall include the cost of labor, materials used and expenses incurred in maintenance of plant, the book cost of which is includible in account 339.6. Generators, and account 339.8, Other Accessory Electrical Equipment. (See operating expense instruction 2.)

559.11 [Reserved]

559.12 Maintenance of computer hardware (Major only).

The account shall include the cost of labor, materials used and expenses incurred in the maintenance of computer hardware serving the other renewable generation subfunction. (See operating expense instruction 2.)

559.13 Maintenance of computer software (Major only).

This account shall include the cost of labor, materials used and expenses incurred for annual computer software license renewals, annual software update services and the cost of ongoing support for software products serving the other renewable generation subfunction. (See operating expense instruction 2.)

559.14 Maintenance of communication equipment (Major only).

This account shall include the cost of labor, materials used and expenses incurred in the maintenance of communication equipment serving the other renewable generation subfunction. (See operating expense instruction 2.)

559.15 Maintenance of miscellaneous other renewable generation plant (Major only).

This account shall include the cost of labor, materials used and expenses incurred in maintenance of miscellaneous other renewable generation plant, the book cost of which is includible in account 339.12, Miscellaneous Power Plant Equipment. (See operating expense instruction 2.)

559.16 Maintenance of other renewable generation plant (Nonmajor only).

This account shall include the cost of labor, materials used and expenses incurred in the maintenance of other renewable generation plant the book cost of which is includible in plant accounts 339.2 to 339.12, inclusive. (See operating expense instruction 2.)

* * * * *

562.1 [Reserved]

* * * * *

569.1 Maintenance of computer hardware (Major only).

This account shall include the cost of labor, materials used and expenses incurred in the maintenance of computer hardware serving the transmission function. (See operating expense instruction 2.)

569.2 Maintenance of computer software. (Major only).

This account shall include the cost of labor, materials used and expenses incurred for annual computer software license renewals, annual software update services and the cost of ongoing support for software products serving the transmission function. (See operating expense instruction 2.)

Items

1. Telephone support.

2. Onsite support.

3. Software updates and minor revisions.

569.3 Maintenance of communication equipment (Major only).

This account shall include the cost of labor, materials used and expenses incurred in the maintenance of communication equipment serving the transmission function. (See operating expense instruction 2.)

* * * * *

570.1 [Reserved]

* * * * *

577.1 Operation supervision and engineering.

A. For Major Utilities, this account shall include the cost of labor and expenses incurred in the general supervision and direction of the operation of energy storage plant. Direct supervision of specific activities shall be charged to the appropriate account. (See operating expense instruction 1.)

B. For Nonmajor Utilities, this account shall include the cost of supervision and labor in the operation of energy storage equipment.

Labor

1. Supervising energy storage equipment operation.

2. Operating energy storage equipment and auxiliary apparatus and switching and other electric equipment.

3. Operating switchboards, switch gear and electric control and protective equipment.

4. Keeping electric plant log and records and preparing reports on electric plant operations.

5. Testing, checking and adjusting meters, gauges, and other instruments, relays, controls and other equipment in the electric plant.

6. Cleaning electric plant equipment when not incidental to maintenance work.

577.2 Operation of energy storage equipment (Major only).

This account shall include the cost of labor, materials used and expenses incurred in operating energy storage plant and their auxiliary apparatus, switch gear and other electric equipment to the points where electricity leaves for conversion for transmission or distribution, or are not readily assignable to other energy storage operation expense accounts.

Labor

1. Operating switchboards, switch gear and electric control and protective equipment.

2. Operating energy storage and auxiliary apparatus and switching and other electric equipment.

3. Keeping electric plant log and records and preparing reports on electric plant operations.

4. Testing, checking and adjusting meters, gauges, and other instruments, relays, controls and other equipment in the electric plant.

5. Cleaning electric plant equipment when not incidental to maintenance work.

6. General clerical work.

7. Guarding and patrolling plant and yard.

8. Building service.

9. Care of grounds including snow removal, cutting grass, etc.

10. Miscellaneous labor.

Materials and Expenses

11. Lubricants and control system oils.

12. General operating supplies, such as tools, gaskets, packing waste, gauge glasses, hose, indicating lamps, record and report forms, etc.

13. First-aid supplies and safety equipment.

14. Employees' service facilities expenses.

15. Building service supplies.

16. Communication service.

17. Miscellaneous office supplies and expenses, printing and stationery.

18. Transportation expenses.

19. Meals, traveling and incidental expenses.

20. Water for fire protection or general use.

21. Research, development, and demonstration expenses.

577.3 Storage fuel.

This account shall include the cost delivered at the station (see account 151, Fuel Stock, for Major utilities, and account 154, Plant Materials and Operating Supplies, for Nonmajor utilities) of all fuel, such as electrolytes, hydrogen, renewable natural gas, algae, etc., used in energy storage.

577.4 Rents.

This account shall include all rents of property of others used, occupied or operated in connection with energy storage. (See operating expense instruction 3.)

577.5 Operation supplies and expenses (Nonmajor only).

This account shall include the cost of materials used and expenses incurred in the operation of energy storage equipment.

Items

1. Lubricants and control system oils.

2. General operating supplies, such as tools, packing waste, hose, indicating lamps, record and report forms, etc.

3. First-aid supplies and safety equipment.

4. Employees' service facilities expenses.

5. Building service supplies.

6. Communication service.

7. Miscellaneous office supplies and expenses, printing and stationery.

8. Transportation expenses.

9. Meals, traveling and incidental expenses.

10. Water for fire protection or general use.

578.1 Maintenance supervision and engineering (Major only).

This account shall include the cost of labor and expenses incurred in the general supervision and direction of maintenance of energy storage facilities. Direct field supervision of specific jobs shall be charged to the appropriate maintenance account. (See operating expense instruction 1.)

578.2 Maintenance of energy storage equipment and structures (Major only).

This account shall include the cost of labor, materials used and expenses incurred in the maintenance of energy storage structures, energy storage equipment, and other energy storage plant the book cost of which is includible in account 387.2, Structures and Improvements, account 387.3, Energy Storage Equipment, account 387.5, Collector System, account 387.6, Generator Step-up Transformers (GSU), and account 387.7, Inverters. (See operating expense instruction 2.)

578.3 Maintenance of computer hardware (Major only).

The account shall include the cost of labor, materials used and expenses incurred in the maintenance of computer hardware serving the energy storage function. (See operating expense instruction 2.)

578.4 Maintenance of computer software (Major only).

This account shall include the cost of labor, materials used and expenses incurred for annual computer software license renewals, annual software update services and the cost of ongoing support for software products serving the energy storage function. (See operating expense instruction 2.)

578.5 Maintenance of communication equipment (Major only).

This account shall include the cost of labor, materials used and expenses incurred in the maintenance of communication equipment serving the energy storage function. (See operating expense instruction 2.)

578.6 Maintenance of miscellaneous other energy storage plant (Major only).

This account shall include the cost of labor, materials used and expenses incurred in maintenance of miscellaneous energy storage plant, the book cost of which is includible in account 387.11, Miscellaneous Energy Storage Equipment. (See operating expense instruction 2.)

578.7 Maintenance of other energy storage plant (Nonmajor only).

This account shall include the cost of labor, materials used and expenses incurred in the maintenance of energy storage plant the book cost of which is includible in plant accounts 387.2 to 387.11, inclusive. (See operating expense instruction 2.)

584.1 [Reserved]

* * * * *

592.2 Maintenance of computer hardware (Major only).

The account shall include the cost of labor, materials used and expenses incurred in the maintenance of computer hardware serving the distribution function.

592.3 Maintenance of computer software (Major only).

This account shall include the cost of labor, materials used and expenses incurred for annual computer software license renewals, annual software update services and the cost of ongoing support for software products serving the distribution function. (See operating expense instruction 2.)

592.4 Maintenance of communication equipment (Major only).

This account shall include the cost of labor, materials used and expenses incurred in the maintenance of communication equipment serving the distribution function. (See operating expense instruction 2.)

* * * * *

935.1 Maintenance of computer hardware (Major only).

The account shall include the cost of labor, materials used and expenses incurred in the maintenance of computer hardware used for administrative and general purposes. (See operating expense instruction 2.)

935.2 Maintenance of computer software (Major only).

This account shall include the cost of labor, materials used and expenses incurred for annual computer software license renewals, annual software update services and the cost of ongoing support for software products used for administrative and general purposes. (See operating expense instruction 2.)

935.3 Maintenance of communication equipment (Major only).

This account shall include the cost of labor, materials used and expenses incurred in the maintenance of communication equipment used for administrative and general purposes. (See operating expense instruction 2.)

Note: The following Appendix will not be published in the Code of Federal Regulations.

X. Appendix A: New and Amended Form 1/1F/3-Q (Electric)

(The form changes were done considering a PDF format but would ultimately be configured for XBRL presentation. The following forms schedules represent an option for implementation and do not necessarily represent how the schedule will appear once designed, developed, and deployed.)

Note: Deletions are in brackets and Additions are in italics.

As indicated in the labels at the bottom of each schedule, the first schedules show changes to the pages of FERC Form No. 1 as well as pages that are the same in FERC Form Nos. 1-F and 3-Q (stating where page numbers differ), followed by schedules that have changes that only affect FERC Form No. 1-F, and lastly schedule changes to FERC Form No. 60.

BILLING CODE 6717-01-P

[FR Doc. 2023-14994 Filed 10-4-23; 8:45 am]

BILLING CODE 6717-01-C